ENVIRONMENTAL PROTECTION AGENCY

40 CFR Part 63

[EPA-OAR-2003-0121; FRL-8005-2]

RIN 2060-AM43

National Emission Standards for Hazardous Air Pollutants: Miscellaneous Organic Chemical Manufacturing

AGENCY: Environmental Protection Agency (EPA).

ACTION: Proposed rule; amendments.

SUMMARY: On November 10, 2003, EPA promulgated national emission standards for hazardous air pollutants (NESHAP) for miscellaneous organic chemical manufacturing. Several petitions for judicial review of the final rule were filed in the U.S. Court of Appeals for the District of Columbia Circuit. Petitioners expressed concern with various requirements in the final rule, including applicability of specific operations and processes, the leak detection and repair requirements for connectors, criteria to define affected wastewater streams requiring control, control requirements for wastewater streams that contain only soluble HAP (SHAP), the definition of process condensers, and recordkeeping requirements for Group 2 batch process vents. In this action, EPA proposes amendments to the final rule to address these issues and to correct inconsistencies that have been discovered during the review process.

DATES: Comments. Comments must be received on or before January 24, 2006.

Public Hearing. If anyone contacts EPA requesting to speak at a public hearing by December 19, 2005, a public hearing will be held on December 23, 2005.

ADDRESSES: Submit your comments, identified by Docket ID No. EPA OAR-2003-0121, by one of the following methods:

• Federal eRulemaking Portal: http://www.regulations.gov. Follow the on-line instructions for submitting comments.

• Agency Web site: http://www.epa.gov/edocket. EDOCKET, EPA's electronic public docket and comment system, will be replaced by an enhanced Federal-wide electronic docket management and comment system located at www.regulations.gov. When this occurs, you will be redirected to that site to access the docket and submit comments. Follow the on-line instructions.

• E-mail: a-and-r-docket@epa.gov.

• Fax: (202) 566-1741.

• Mail: Air and Radiation Docket and Information Center, EPA, Mailcode: 6102T, 1200 Pennsylvania Ave., NW., Washington, DC 20460. Please include a duplicate copy, if possible.

• Hand Delivery: Air and Radiation Docket, EPA, Room B-102, 1301 Constitution Avenue, NW., Washington, DC 20460. Such deliveries are only accepted during the Docket's normal hours of operation, and special arrangements should be made for deliveries of boxed information. We request that a separate copy of each public comment also be sent to the contact person listed below (see FOR FURTHER INFORMATION CONTACT).

Instructions: Direct your comments to Docket ID No. EPA-OAR-2003-0121. The EPA's policy is that all comments received will be included in the public docket without change and may be made available online at http://www.regulations.gov including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment with a disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Air and Radiation Docket, EPA/DC, EPA West, Room B102, 1301 Constitution Ave., NW., Washington, DC. The Public Reading Room is open from 8:30 a.m. to 4:30 p.m., Monday through Friday, excluding legal holidays. The telephone number for the Public Reading Room is (202) 566-1744, and the telephone number for the Air and Radiation Docket is (202) 566-1742.

Public Hearing. If a public hearing is held, it will be held at 10 a.m. at EPA's Environmental Research Center Auditorium, Research Triangle Park, North Carolina or at an alternate site nearby.

FOR FURTHER INFORMATION CONTACT: Mr. Randy McDonald, Organic Chemicals Group (C504-04), Emission Standards Division, U.S. EPA, Research Triangle Park, NC 27711; telephone number: (919) 541-5402; fax number: (919) 541-3470; e-mail address: mcdonald.randy@epa.gov.

SUPPLEMENTARY INFORMATION: Regulated Entities. Categories and entities potentially regulated by this action include:

Category | NAICS * | Examples of regulated entities
Industry | 3251, 3252, 3253, 3254, 3255, 3256, and 3259, with several exceptions | Producers of specialty organic chemicals, explosives, certain polymers and resins, and certain pesticide intermediates.
* North American Industry Classification System.

This table is not intended to be exhaustive, but rather provides a guide for readers regarding entities likely to be regulated by this action. To determine whether your facility is regulated by this action, you should examine the applicability criteria in 40 CFR 63.2435. If you have any questions regarding the applicability of this action to a particular entity, consult the person listed in the preceding FOR FURTHER INFORMATION CONTACT section.

Submitting CBI. Do not submit this information to EPA through www.regulations.gov or e-mail. Clearly mark the part or all of the information that you claim to be CBI. For CBI information on a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

Public Hearing. Persons interested in presenting oral testimony or inquiring as to whether a hearing is to be held should contact Randy McDonald, Organic Chemicals Group, Emission Standards Division (Mail Code C504-04), U.S. EPA, Research Triangle Park, North Carolina, 27711, telephone number (919) 541-5402, electronic mail address mcdonald.randy@epa.gov, at least two days in advance of the potential date of the public hearing. Persons interested in attending the public hearing also must call Mr. Randy McDonald to verify the time, date, and location of the hearing. A public hearing will provide interested parties the opportunity to present data, views, or arguments concerning the proposed amendments.

World Wide Web (WWW). In addition to being available in the docket, an electronic copy of the proposed rule is also available on the WWW through the Technology Transfer Network Web site (TTN Web). Following signature, a copy of the proposed rule will be posted on the TTN's policy and guidance page for newly proposed or promulgated rules at http://www.epa.gov/ttn/oarpg. The TTN provides information and technology exchange in various areas of air pollution control.

Organization of This Document. The information presented in this preamble is organized as follows:

I. Why are we proposing amendments to subpart FFFF?

II. How are we proposing to amend the compliance dates?

A. Existing Sources

B. Process Changes Resulting in New Compliance Requirements

III. How are we proposing to amend the applicability requirements?

A. Compounding and Finishing Operations in Polymer Processes

B. Carbon Monoxide Production

C. Boundary of a Miscellaneous Organic Chemical Manufacturing Process Unit That Produces a Solid Product

D. Applicability of the MON to Coke By-Product Plants

IV. How are we proposing to amend the requirements for process vents?

A. Process Condensers

B. Requirements for HAP Metal Compounds

C. Compliance Requirements for Process Tanks

D. Provisions for Switching Batch Process Vents from Group 2 to Group 1

E. Definition of Batch Process Vent

F. Definitions of Continuous Process Vent and Related Terms

G. Definition of Group 1 Continuous Process Vent

H. Requirements for Biofilter Control Devices

I. Emission Limit for Hydrogen Halide and Halogen HAP from Process Vents

V. How are we proposing to amend the requirements for wastewater systems?

A. Definitions of Wastewater and Group 1 Wastewater

B. Management Requirements for Wastewater That is Group 1 for Soluble HAP

C. Discarding Materials to Water or Wastewater

D. Compliance Requirements

E. Definition of Wastewater

VI. How are we proposing to amend the requirements for equipment leaks?

VII. How are we proposing to amend the recordkeeping and reporting requirements?

A. Processes with Uncontrolled Emissions Below the Thresholds for Control

B. Standard and Nonstandard Batches

C. Operating Logs

D. Reporting Requirements for Emission Points that Change from Group 2 to Group 1

VIII. How are we proposing to change requirements that apply when requirements in subpart FFFF and another rule apply to the same equipment?

IX. What miscellaneous technical corrections are we proposing?

X. Statutory and Executive Order Reviews

A. Executive Order 12866: Regulatory Planning and Review

B. Paperwork Reduction Act

C. Regulatory Flexibility Act

D. Unfunded Mandates Reform Act

E. Executive Order 13132: Federalism

F. Executive Order 13175: Consultation and Coordination with Indian Tribal Governments

G. Executive Order 13045: Protection of Children from Environmental Health and Safety Risks

H. Executive Order 13211: Actions That Significantly Affect Energy Supply, Distribution, or Use

I. National Technology Transfer Advancement Act

I. Why are we proposing amendments to subpart FFFF?

On November 10, 2003, we promulgated NESHAP for miscellaneous organic chemical (MON) manufacturing as subpart FFFF of 40 CFR part 63. Petitions for review of the MON were filed in the U.S. Court of Appeals for the District of Columbia Circuit by American Chemistry Council, Eastman Chemical Company, Clariant LSM (America), Inc., Rohm and Haas Company, General Electric Company, Coke Oven Environmental Task Force (“COETF”) and Lyondell Chemical Company (collectively “Petitioners”).¹ These matters were consolidated into American Chemical Council, et al. v. EPA, No. 04-1004, 04-1005, 04-1008, 04-1009, 04-1010, 04-1012, 04-1013 (D.C. Cir.). Issues raised by the petitioners included applicability of the final rule; leak detection and repair requirements for connectors; definitions of process condenser, continuous process vent, and Group 1 wastewater; treatment requirements for wastewater that is Group 1 only for SHAP; recordkeeping for Group 2 batch process vents; and notification requirements for Group 2 emission points that become Group 1 emission points. In early October 2005, the parties signed a settlement agreement. Pursuant to section 113(g) of the Clean Air Act (CAA), notice of the settlement was published in the Federal Register on October 26, 2005 (70 FR 61814).

¹ The Fertilizer Institute and Arteva Specialties S.' ar.l also filed petitions for review but voluntarily withdrew their petitions.

Today's proposed amendments address the issues raised by Petitioners and include corrections and clarifications to ensure that the final rule is implemented as intended. Today's proposed amendments also provide some new compliance options, as well as new provisions that would reduce the burden associated with demonstrating compliance. For example, the use of biofilters is proposed as an option for complying with the 95 percent reduction emission limit for batch process vents, a new compliance option is proposed for wastewater that would allow certain waste management units in a biotreatment system to be uncovered if the wastewater being treated is Group 1 only for soluble HAP, and a new regulatory alternative for equipment leaks would simplify applicability by applying the same requirements to all MON processes and reduce the leak detection burden for connectors. We are also proposing revised recordkeeping requirements in 40 CFR 63.2525(e) for Group 2 batch process vents that would eliminate recordkeeping in certain situations and reduce the recordkeeping burden if non-reactive HAP usage is less than 10,000 pounds per year (lb/yr) or if emissions are less than 1,000 lb/yr, and we are proposing to eliminate the requirement to include results of engineering assessments that determine emissions from batch operations that have hazardous air pollutant (HAP) concentrations less than 50 parts per million by volume (ppmv) in your precompliance report.

II. How are we proposing to amend the compliance dates?

A. Existing Sources

The Miscellaneous Organic Chemical Manufacturing NESHAP promulgated on November 10, 2003, specifies that existing source must be in compliance with the NESHAP no later than November 10, 2006. Precompliance reports must be filed by May 10, 2006. We are proposing a new compliance date of May 10, 2008, because the proposed amendments are sufficiently far reaching and complex that an amended rule would effectively be a new rule warranting a new compliance date and because we do not anticipate finalizing the proposed amendments with sufficient time for parties to comply with the amended rule, which set forth provisions inconsistent with existing provisions.

Section 112(a)(3) of the CAA provides that existing sources are to be in compliance with applicable emission standards “as expeditiously as practicable, but in no event later than 3 years after the effective date of such standard.” The November 10, 2003, Miscellaneous Organic Chemical Manufacturing NESHAP specify a compliance date 3 years from the issuance of that rule. Section 112(d)(6) of the CAA provides authority for the Administrator to revise the emission standards issued under CAA section 112 “no less often than every 8 years.” We believe the authority to revise the standards inherently includes the authority to set new compliance dates for revised rules. Congress provided us discretion to set a compliance date for existing sources of up to 3 years in order to provide time for retrofitting of controls where necessary. Thus, due to the extensive nature of the proposed amendments, we are proposing a new compliance date.

We believe that 18 months from the otherwise applicable compliance date will be sufficient for all sources to come into compliance with the proposed amendments. However, should any source be unable to meet that compliance date because of the need to install controls that cannot be installed by that date, each source may request an extension of up to 1 year in accordance with 40 CFR 63.6(i)(4) and (6).

B. Process Changes Resulting in New Compliance Requirements

We are proposing to add language to 40 CFR 63.2445 to clarify when compliance is required after making any of the following types of process changes after the compliance date: Changing the status of any emission point from Group 2 to Group 1, increasing uncontrolled hydrogen halide and halogen emissions from all process vents within a process above 1,000 lb/yr, increasing uncontrolled HAP metals emissions from all process vents within a process at a new source above 150 lb/yr (see discussion later in this preamble regarding the change from PM HAP to HAP metals), or changing the status of a control device from small to large. A large control device is a control device that has an inlet HAP load equal to or greater than 10 tons per year (tpy), and a small control device has an inlet HAP load less than 10 tpy.

After making any of the noted process changes, information presented in the notification of compliance status report demonstrating initial compliance must be updated according to 40 CFR 63.2520(e)(10)(i). If the situations after any of the changes described above had existed on the initial compliance date, a performance test (or design evaluation in some cases) would have been required to demonstrate initial compliance. Thus, a performance test or design evaluation is also required to satisfy the requirements of 40 CFR 63.2520(e)(10)(i) after one of the noted process changes, and the results must be included in the compliance report for the period during which the change occurred. Compliance reports are due 2 months after the end of a reporting period. This means a facility would have between approximately 60 and 240 days, depending on when the change occurred during the reporting period, to complete the performance test or design evaluation and include it in the applicable report. We consider 60 days to be insufficient, particularly for a performance test. Work on a design evaluation could begin before the change occurs, but a performance test cannot be conducted until the equipment is operating. We also consider the potential variability in timing among sources to be unreasonable. Therefore, we are proposing language in 40 CFR 63.2445 to specify that performance tests and design evaluations must be conducted within 150 days after making one of the types of process changes listed above. This timeframe is also consistent with the amount of time allowed to complete these activities after the initial compliance date and include the results in the notification of compliance status report.

Sections 63.2445(b) and (c) of the promulgated rule require compliance with all applicable requirements no later than the compliance date. If you make a process change after the compliance date, this requirement means you must comply with all applicable requirements for the changed situation beginning on the date the change occurs. To clarify this requirement for the types of process changes described above, we are proposing language in 40 CFR 63.2445 to explicitly state that Group 1 requirements (e.g., emission limits in table 2 to subpart FFFF for batch process vents) apply beginning on the date of a change from Group 2 to Group 1, that applicable emission limits in table 3 to subpart FFFF apply beginning on the date HAP metals or hydrogen halide and halogen HAP emissions are increased above applicable thresholds, and monitoring and recordkeeping requirements for large control devices apply beginning on the date a control device changes status from small to large.

III. How are we proposing to amend the applicability requirements?

We are proposing several changes to the applicability requirements, particularly to clarify and add exceptions in order to make the regulation consistent with our intent and the data underlying the standards. Another change involves the boundary of a miscellaneous organic chemical manufacturing process unit (MCPU) that produces a solid product.

A. Compounding and Finishing Operations in Polymer Processes

We are proposing to revise 40 CFR 63.2435(c)(4) to clarify the types of polymer finishing operations that are exempted from subpart FFFF. Section 63.2435(c)(4) currently exempts only fabricating operations (such as spinning a polymer to its end use). Another finishing operation (compounding of purchased resins) is exempted by the exemption in 40 CFR 63.2435(c)(5) for production activities described using the 1997 version of NAICS code 325991. These exemptions for finishing operations were included in the final rule due to the minimal potential for emissions from such operations. After reviewing this issue, we have determined that additional finishing operations can be exempted for the same reason. Thus, the proposed amendments to 40 CFR 63.2435(c)(4) would expand the exemption for finishing operations to cover activities that can be classified as fabricating, compounding, drawing, or extrusion operations, provided they do not meet certain specified conditions. For example, the exemption would not apply where residual monomer remains with some polymers and an intended purpose of the finishing operation is to remove the residual monomer. A finishing operation also would not be exempt if it involves processing with HAP solvent (e.g., if a solid polymer product is dissolved in a HAP solvent prior to the finishing operation). These changes would make the exemptions consistent with the exemptions in previous rules for polymer production processes such as 40 CFR part 63, subpart JJJ.

As noted above, spinning a polymer into its end use is given as an example of “fabricating operations” in the existing rule. To further exemplify the meaning of this term, the proposed amendments provide compressing a solid polymer into its end use as another example.

The proposed amendments would exempt all compounding operations with a previously produced solid polymer, not just compounding of purchased resins as currently provided for in 40 CFR 63.2435(c)(5). The compounding operation is the same whether it is done with purchased resins or at the facility that produced the resins. Thus, there is no reason to limit the exemption to compounding of purchased resins. To clarify what we mean by “compounding operations,” the proposed amendments describe them as “blending, melting, and resolidification of a solid polymer * * * for the purpose of incorporating additives, colorants, or stabilizers.”

The proposed amendments include a new exemption for extrusion and drawing operations. These finishing operations are described in the proposed amendments as operations that “convert[] an already produced solid polymer into a different shape by melting or mixing the polymer and then forcing it or pulling it through an orifice to create an extruded product.” Note that this means some extrusion and drawing operations are not exempt (in addition to those operations that are intended to remove residual HAP monomer or involve processing with a HAP solvent). Specifically, extrusion and drawing operations integral to production of the solid polymer are part of a MCPU and are not exempt.

B. Carbon Monoxide Production

While carbon monoxide (CO) is an inorganic compound,² petitioners argued that the final rule was ambiguous whether CO production was covered by the MON since it is included under NAICS category 325120, and the MON has no exemption for CO production. While we did not intend to cover CO production under the MON, it is not a HAP and thus not subject to regulation under CAA section 112, we are proposing to clarify the MON by adding a new 40 CFR 63.2435(c)(7) to specifically exempt CO production processes.

² Numerous government documents and technical references identify CO as an inorganic compound. For example, the term “volatile organic compounds” is defined in 40 CFR 51.1000(s) as “any compound of carbon, excluding carbon monoxide * * * which participates in atmospheric photochemical reactions.” The definition goes on to list compounds that have negligible photochemical reactivity. Since CO was explicitly excluded, and it is clearly volatile, the definition makes it clear that CO is not considered to be an organic compound. In addition, Hawley's Condensed Chemical Dictionary states that CO is classified as an inorganic chemical, and the physical properties of CO are listed in a table of inorganic compounds in the Chemical Engineers' Handbook.

C. Boundary of a Miscellaneous Organic Chemical Manufacturing Process Unit That Produces a Solid Product

A miscellaneous organic chemical manufacturing process unit is defined in 40 CFR 63.2550(i) of the MON as “all equipment which collectively function to produce a product * * *” The end of a process is the point at which product is transferred to a storage tank or a transfer rack because 40 CFR 63.2435(d) specifies that such equipment is associated with a process (i.e., not part of the process), and it may be part of the MCPU if it meets specified criteria. Both liquid and solid products may be stored or transferred to shipping containers. However, the definitions of “storage tank” and “transfer rack” explicitly refer to storage or transfer of organic liquids. Thus, it is not clear if storage and transfer of solid products should be subject to these definitions, if they are unit operations that are part of the process, or if they are exempt from the final rule.

To eliminate this ambiguity, we are proposing to revise the definition of “miscellaneous organic chemical manufacturing process” in 40 CFR 63.2550(i) to specify the endpoint of a process that produces a solid product. If the product is dried, the end of the process would be the dryer. For a polymer production process without a dryer, the end of the process would be the extruder or die plate. This is consistent with the revisions to the exemption for polymer finishing operations discussed above. There would be two exceptions to these endpoints. One exception is if the dryer, extruder, or die plate is followed by blending or another operation that is designed and operated to remove HAP solvent or residual HAP monomer from the solid product. The second exception is if the dried solid is mixed with a HAP-based solvent. In both cases, the HAP removal operation would be the last step in the process.

D. Applicability of the MON to Coke By-Product Plants

One of the petitioners requested clarification as to the applicability of the MON to coke by-product plants. On January 30, 2001, EPA deleted coke by-product plants from the list of major and area sources of HAP required by CAA section 112(c)(1). (See 66 FR 8220.) Consequently, 40 CFR part 63 miscellaneous achievable control technology (MACT) standards promulgated under CAA section 112(d), such as the MON, would not apply to the deleted coke by-product plant source category. Moreover, as EPA explained in 2001, coke by-product plants remain subject to the pre-existing NESHAP for benzene emissions from coke by-product recovery plants at 40 CFR part 61, subpart L. (See 66 FR at 8222.) EPA is not proposing any changes to the MON in order to clarify this issue, as it is unnecessary to do so. Today's clarification is wholly consistent with EPA's previous action in 2001 deleting the coke by-product plant source category.

IV. How are we proposing to amend the requirements for process vents?

A. Process Condensers

We are proposing several changes to clarify the definition of “process condenser,” the procedures for calculating emissions when process condensers are used, and related recordkeeping and reporting requirements. We are proposing changes to the definition because we have become aware of an inconsistency between the definition of that term as it is used in the MON and the way industry representatives interpreted the term when they were reporting uncontrolled emissions in response to our information request in 1997. The inconsistency stems from a difference in the interpretation of “integral to a process.” Companies considered condensers to be integral to a process if collected material was returned to the process or used for fuel value, whereas we considered condensers to be integral only if they reduced the temperature below the bubble point or boiling point. Thus, the companies reported uncontrolled emissions at the outlet of more condensers than we realized, which means the current regulatory requirements do not align with the data that were used to develop the MACT floor. The proposed revisions would correct this misalignment by clarifying the term process condenser as described below.

Section 63.2460(c)(1) of the current rule references the definition of process condenser in 40 CFR 63.1251 of 40 CFR part 63, subpart GGG (the Pharmaceuticals Production NESHAP). According to this definition, the primary purpose of a process condenser is to recover material as an integral part of a process. To clarify what is meant by the terms “recover” and “an integral part of a process,” we are proposing to create a freestanding (i.e., non-cross referenced) term “process condenser” in 40 CFR 63.2550(i) of subpart FFFF. This proposed definition would specify that “a primary condenser or condensers in series are considered to be integral to the MCPU if they are capable of and normally used for the purposes of recovering chemicals for fuel value (i.e., net positive heating value), use, reuse or for sale for fuel value, use, or reuse.” The definition of process condenser in subpart GGG also specified that a process condenser included a condenser recovering condensate from a process at or above the boiling point, and all condensers in line prior to a vacuum source. This part of the definition is retained in the proposed definition for 40 CFR 63.2550(i).

The new language related to “recover” and “integral part of a process” is already used in the definition of “recovery device” in 40 CFR part 63, subpart SS, that is referenced in 40 CFR part 63, subpart FFFF, for continuous process vents. Thus, the proposed change to the definition of process condenser makes it clear that the concept of recovering chemicals with a condenser has similar meaning regardless of whether the vent is associated with a batch unit operation or a continuous unit operation. An important point to note is that the proposed changes to the definition mean condensers cannot be recovery devices for the purpose of complying with the 95 percent reduction requirement specified in table 2 to subpart FFFF because any recovery operation makes the condenser a process condenser. Condensers that are not process condensers can still be control devices used alone or in series with other control devices to comply with either the 98 percent reduction or the outlet concentration option.

We are also proposing additional changes to 40 CFR 63.2460(b) and (c) to clarify procedures for calculating uncontrolled emissions associated with process condensers. We are proposing to amend paragraphs (1) and (2) in 40 CFR 63.2460(b) to clarify that the referenced procedures for calculating uncontrolled emissions from heating and depressurization events for batch process vents are only for situations where the process vessel is not equipped with a process condenser. We are proposing to add a new paragraph in 40 CFR 63.2460(b) to provide the appropriate procedures for calculating uncontrolled emissions for all types of emission episodes when a process vessel is equipped with a process condenser.

We are proposing to add regulatory text to 40 CFR 63.2460(c) specifying that you must make the determination of whether a condenser is a process condenser or air pollution control device as part of your initial compliance demonstration, and you must report the results and supporting rationale in your notification of compliance status report. This determination is made on a process basis, which means a condenser is either a process condenser for all gas streams from a given process, or it is an air pollution control device for all gas streams from the process. Furthermore, for nondedicated operations, this means a condenser may be a process condenser for some processes and an air pollution control device for others.

Finally, we are proposing changes to the initial compliance demonstration for process condensers to be consistent with the changes in the definition. Section 63.2460(c)(2)(v) references the initial compliance demonstration procedures in 40 CFR 63.1257(d)(3)(iii)(B) for process condensers that are not followed by an air pollution control device or the air pollution control device is not in compliance with the alternative standard. The procedures require you to either measure the exhaust gas temperature and show it is less than the boiling or bubble point of the substances in the process vessel or perform a material balance around the vessel and condenser to show that at least 99 percent of the material vaporized while boiling is condensed. To be consistent with the proposed definition of process condenser, we are also proposing to revise 40 CFR 63.2460(c)(2)(v) to specify that this demonstration is only required for process condensers that are used with boiling operations (at least part of the time), and that the demonstration must be performed while boiling operations are occurring.

B. Requirements for HAP Metal Compounds

Table 3 to the final rule specifies emission limits for particulate matter (PM) HAP emissions from process vents at new sources, but the final rule does not define “PM HAP.” After reexamining this provision, we decided to propose a number of changes to table 3 and the corresponding compliance procedures specified in 40 CFR 63.2465(d). These proposed amendments focus the emission limit on metallic HAP compounds and clarify compliance requirements for metallic HAP.

Our intent in setting the PM HAP emission limit in table 3 to the final rule was to ensure the control of metallic PM HAP emissions. Organic compounds that are emitted as solids are separately addressed by the emission limits for organic compounds (see tables 1 and 2 of subpart FFFF). The term PM HAP, and associated measurement and monitoring techniques, however, does not clearly capture this intent. Accordingly, to clarify this point, we are proposing a number of changes. First, we are proposing to revise table 3 in the rule to specify emission limits for “HAP metals” rather than “PM HAP.” This does not impact the substance of the final rule as uncontrolled HAP metals must still be reduced by 97 percent, identical to the reduction specified for PM HAP in the final rule. Second, the term “HAP metals” would be defined in 40 CFR 63.2550(i) to mean the metal portion of antimony compounds, arsenic compounds, beryllium compounds, cadmium compounds, chromium compounds, cobalt compounds, lead compounds, manganese compounds, nickel compounds, and selenium compounds. Third, the emissions threshold above which control is required would be changed from 400 lb/yr of PM HAP (i.e., compounds that contain metals) to 150 lb/yr of HAP metals. Fourth, to determine the uncontrolled emissions of HAP metals, we are proposing to allow the use of process knowledge, engineering assessments, or test data. If you do not wish to determine the uncontrolled emissions, we are proposing to allow you to designate the HAP metals emissions as greater than 150 lb/yr. Finally, to demonstrate initial compliance with the 97 percent reduction requirement for the HAP metals, we are proposing to allow the use of Method 29 of appendix A of 40 CFR part 60 as well as Method 5 of appendix A of 40 CFR part 60.

The proposed definition of “HAP metals” and the revised emissions threshold are based on the metal portion of the compounds rather than the total mass of the compounds that contain metals simply to clarify that the threshold does not include non-HAP particulate matter. The revised threshold was developed using the same process that was used to develop the original threshold for the MACT floor. This process emitted 400 lb/yr of manganese sulfate. Since manganese sulfate is about 36 percent manganese by weight, the amount of manganese emitted was about 150 lb/yr. Method 29 of appendix A of 40 CFR part 60 allows you to determine the quantity of each HAP metal at the inlet and outlet of the control device(s). However, since controls for PM would also control the HAP metals, a second option is to use Method 5 of appendix A of 40 CFR part 60 to determine the quantity of PM at the inlet and outlet of the control device(s).

C. Compliance Requirements for Process Tanks

As defined in 40 CFR 63.2550(i), batch process vents include process tanks. Table 2 to subpart FFFF requires reduction of HAP from batch process vents by greater than or equal to 98 percent, or 95 percent if HAP is recovered and reused onsite. As currently written, however, the recovery option is restricted to situations where there is a closed-vent system and a recovery device. Such a system, however, is not the only option for preventing loss of product. Floating roof technology achieves 95 percent or greater reductions by preventing evaporation. Thus, it is a pollution prevention control technology that meets the intent of the 95 percent recovery option for batch process vents in table 2 to subpart FFFF.

Indeed, several rules, such as the hazardous organic NESHAP (HON) and the new source performance standards in 40 CFR part 60, subpart Kb, specify that emissions from storage tanks must be reduced using an internal or external floating roof or by venting the emissions through a closed-vent system to a control device that reduces the emissions by at least 95 percent. To allow floating roof technology to comply with batch process tanks we are revising table 2 to subpart FFFF to reference the requirements of subpart WW of this part for any process tank. In addition, to make the referenced language consistent with process vent requirements, we propose adding regulatory text in 40 CFR 63.2460(c) specifying that when subpart WW uses the term “storage vessel,” it means “process tank” for the purposes of 40 CFR 63.2460.

D. Provisions for Switching Batch Process Vents From Group 2 to Group 1

We are proposing to add a new 40 CFR 63.2460(b)(6) to specify that a performance test report (or design evaluation, if emissions are controlled by a small control device) must be submitted in the next compliance report whenever you switch from Group 2 batch process vents to Group 1. This requirement is inherent in the existing rule because an initial compliance demonstration is required for Group 1 vents but not Group 2 vents. The proposed language simply makes more explicit this requirement. Also see the discussion earlier in this preamble regarding compliance dates for emission points that switch from Group 2 to Group 1.

We are also proposing to include language in the new 40 CFR 63.2460(b)(6) to clarify the recordkeeping and reporting requirements associated with making a switch from Group 2 to Group 1. Section 63.2520(e)(10)(ii)(C) currently requires a 60-day advance notification of any change in status from Group 2 to Group 1. The primary reason for this notification is that it alerts the regulatory authority to a situation where a performance test (or design evaluation) will be needed. However, we realize that certain facilities have frequent turnover in their batch production processes, and it can be difficult to predict 60 days in advance which new processes will grow to the point that they have Group 1 batch process vents. To minimize this burden, we are proposing to eliminate the advance notification requirement if records show the process has been in compliance with the 10,000 lb/yr threshold for Group 2 batch process vents for at least 365 days prior to the switch (on a rolling average). For these processes, we believe it will be sufficient to receive notification of the switch in the next compliance report. The existing requirement for a 60-day advance notification of a switch would still apply if the process has not been operated for at least one year with Group 2 batch process vents. See discussion later in this preamble regarding the related changes to the reporting requirements in 40 CFR 63.2520(e)(10).

E. Definition of Batch Process Vent

We are proposing minor changes to clarify the threshold levels specified in the definition of “batch process vent.” Although these changes will not change the thresholds or the intended meaning of the definition, we are including a detailed explanation in this preamble of how to apply the thresholds to ensure that the revised language is interpreted as we intended. We are also proposing to make a separate change to reduce the burden of demonstrating whether emission streams exceed these thresholds and, thus, constitute batch process vents.

Item number 8 in the definition of batch process vent specifies two HAP thresholds below which emission streams are not a batch process vent. The first threshold is 50 ppmv of HAP. This threshold applies to the emission stream from each individual emission episode (e.g., a displacement, purge, vacuum operation, etc.). If the average HAP concentration over the episode is less than 50 ppmv, then the emission stream is not a batch process vent. The second threshold is 200 lb/yr of HAP. This threshold applies to the collective emissions from a single vent (i.e., release point); including releases below the 50 ppmv threshold. Note that HAP concentration is not necessarily required for determination of the single vent emission rate. If the total HAP emissions for a vent are less than 200 lb/yr, then that vent is not a batch process vent, and none of the emission streams that discharge from it are subject to requirements in 40 CFR part 63, subpart FFFF. The vent in this determination may be for a single unit operation that has multiple emission episodes. On the other hand, if you connect the vents from multiple unit operations to a manifold and discharge combined emissions at one point, then the discharge point is the vent for the purposes of this determination. Note that the HAP in emission streams that are exempted by this determination (either because they are individually below the 50 ppmv threshold or because the total emissions from the vent are below the 200 lb/year threshold) do not need to be counted towards the 10,000 lb/yr threshold in the determination of whether batch process vents are Group 1 batch process vents.

The following example provides a simple illustration of how to apply these thresholds. Consider operations in a single vessel that generate HAP emissions from three emission episodes: the first contains HAP at >50 ppmv that amounts to 180 lb/yr when summed over all of the batches for the process in a year, the second contains HAP at <50 ppmv and 20 lb/yr, and the third contains <50 ppmv and 250 lb/yr. A batch process vent exists for this vessel because total emissions exceed 200 lb/yr and the first emission episode has a HAP concentration >50 ppmv. Note that only the first emission episode meets the definition of batch process vent. In addition, only the 180 lb/yr from the first emission episode must be added with emissions from other batch process vents to determine if total emissions from the process meet the 10,000 lb/yr threshold. If the example were changed slightly to have a manifolded vent with emissions from both this vessel and other operations within the process, your manifolded vent would be a batch process vent (regardless of the contribution from the other operations) because the total HAP emissions from the original vessel alone exceed the 200 lb/yr threshold, and an emission episode from the vessel exceeds 50 ppmv.

Other proposed changes to the definition involve the procedures for conducting and reporting the results of an engineering assessment to determine the HAP concentration or mass emission rate for emission streams that will be exempt from control because it is determined that HAP is present at a concentration less than 50 ppmv or a mass emission rate less than 200 lb/yr. Item 8 in the current definition specifies that you may determine the concentration or mass emission rate using an engineering assessment as discussed in 40 CFR 63.1257(d)(2)(ii) of subpart GGG. According to the referenced provision, you could use an engineering assessment only if you first demonstrate that the equations in 40 CFR 63.1257(d)(2)(i) are not applicable. You would also have to provide the results and supporting information in your precompliance report for this finding as well as for the engineering assessment that you want to use.

Since promulgation, it has been brought to our attention that many emission streams from batch operations in MON processes are likely to have HAP emissions below the specified thresholds. As a result, this provision is likely to impose a substantial burden on both affected sources and regulatory agencies. We have determined that such an expenditure of resources on documenting and approving procedures used to estimate emissions from these minor sources imposes an unreasonable regulatory burden relative to the additional precision potential achieved by using the equations in 40 CFR 63.1257(d)(2)(i).

To minimize this burden, we are proposing changes to item 8 of the definition of batch process vent and to related precompliance reporting requirements in 40 CFR 63.2520(c)(4). One new provision in the definition of batch process vent would specify that you do not have to demonstrate that the equations in 40 CFR 63.1257(d)(2)(i) are not appropriate before you may use an engineering assessment, and the second would specify that the precompliance reporting requirements specified in 40 CFR 63.1257(d)(2)(ii)(E) do not apply for the purposes of demonstrating compliance with the applicable threshold. One of the proposed changes to 40 CFR 63.2520(c)(4) would eliminate the requirement to include data and results from an engineering assessment in your precompliance report if you determine the HAP concentration is less than 50 ppmv. We believe that this reporting requirement can be eliminated without compromising the regulatory agency's ability to determine compliance; documenting these results in your notification of compliance status report will be sufficient. Another proposed change to 40 CFR 63.2520(c)(4) would eliminate the requirement to include the results of an engineering assessment that is based on previous test data in your precompliance report. Results based on test data do not need to be approved by the regulatory agency, and we believe that documenting these results in your notification of compliance status report will be sufficient.

F. Definitions of Continuous Process Vent and Related Terms

In the existing rule, only air oxidation reactors, distillation units, and reactors can have continuous process vents because the definition of this term in 40 CFR 63.2550(i) references the criteria in 40 CFR 63.107 of the HON. We are proposing to revise this definition to specify that it applies to any continuous unit operation for the purposes of 40 CFR part 63, subpart FFFF. We determined that this change is needed because the data we used to develop the MACT floor for continuous process vents was not limited to air oxidation reactors, distillation units, and reactors.

We also re-examined the data to determine if any distinct class of continuous process vents, such as atmospheric dryers, would have a different MACT floor than other classes or the combined group of all continuous process vents. We concluded that developing separate MACT floors would be infeasible because data were sparse and inadequate to develop separate floors. However, the data we have indicates that several atmospheric dryers, which are not considered continuous vents in the current rule, have emission characteristics that are sufficiently similar to other continuous process vents in our database such that they should be included in the definition of continuous process vents.

We are also proposing to add another provision to the continuous process vent definition to provide that the determination of whether a gas stream is a continuous process vent must be made at a point before the combination of the gas stream with any other gas streams from process operations. As currently written, when continuous flow gas streams from continuous operations are combined with other gas streams, 40 CFR 63.107(b) would allow determination of whether the combined stream is a continuous process vent. This is inconsistent with our intent that continuous process vents and batch process vents be separate, distinct streams. This intent is evident in the hierarchical provisions in 40 CFR 63.2450(c) for determining applicable requirements for combined streams. The proposed change would eliminate this inconsistency and ensure the rule is implemented consistent with our intent.

Surge control vessels are used in a process to transition from one operation to another. Consistent with the current definition of continuous process vent, the existing definition in 40 CFR part 63, subpart FFFF describes surge control vessels as vessels that precede continuous reactors, air oxidation reactors, and distillation units (i.e., the only operations that have continuous process vents under the existing rule). If the universe of continuous process vents expands as proposed above, then a comparable change is needed in the definition of surge control vessel. To maintain consistency, we are proposing to use the term “continuous operations” in place of the reference to reactors, air oxidation reactors, and distillation units in the definition of surge control vessel. The term “continuous operation” is not defined in the existing rule. However, since the final rule already contains a definition for the term “batch operation,” we are proposing to define a continuous operation as any MON operation that is not a batch operation.

G. Definition of Group 1 Continuous Process Vent

We are proposing to revise the definition of “Group 1 continuous process vent” by adding an exemption for continuous process vents with a flow less than 0.005 standard cubic meter per minute, which was inadvertently excluded from the MON. This error occurred because rather than referencing the definition in 40 CFR 63.111 of the HON, we decided to specifically define this term in 40 CFR 63.2550(i) of subpart FFFF because the definition is short and the key element of the definition, the total resource effectiveness (TRE) threshold, differs between the two rules. While our intent was that other elements of the definition would be the same as in the HON we neglected to include the flowrate threshold. The proposed amendment corrects this oversight.

We believe this correction is appropriate in part because the HON and other NESHAP that also use the same threshold often apply to the same facilities that are subject to 40 CFR part 63, subpart FFFF. Thus, making the definitions more consistent between the rules may reduce both the burden on the affected sources and the potential for inadvertent deviations from requirements.

H. Requirements for Biofilter Control Devices

Interest in using biofilters to control emissions is growing. Therefore, we are proposing to specify that biofilter control devices may be used to comply with the 95 percent reduction option (or outlet concentration limit) for batch process vents. We are also proposing to add a definition for biofilter in 40 CFR 63.2550(i) that is consistent with the definition used in subpart DDDD to part 63 (Plywood and Composite Wood Products NESHAP). Although biofilters are not recovery devices, we are proposing to allow their use for complying with the 95 percent option because they have the ability to meet this limit and they have few cross media impacts.

In addition to specifying that biofilters may be used to comply with the emission limit for batch process vents, we are also proposing initial compliance and monitoring requirements. Initial compliance would have to be demonstrated by conducting a performance test according to the procedures specified in 40 CFR 63.997. A design evaluation would not be allowed because we do not have information on the design characteristics that could be used to demonstrate proper operation and maximum performance of biofilters. You would also have to establish operating limits for either the biofilter bed temperature or the outlet organic concentration based on continuous monitoring conducted during the performance test. Extremes in temperature can slow or halt microbial activity. Thus, monitoring temperature helps determine the health of the microorganism population.

If you elect to measure temperature, you would be allowed to place multiple thermocouples in representative locations throughout the biofilter bed and determine the average from these readings before determining 15-minute or more frequent averages. As for other types of control devices, you would be able to develop the operating limits based on results of a previous performance test that meets all of the requirements in 40 CFR 63.997 and achieves the required reduction. However, we are proposing to require that the operating limits be based only on these measurements. Engineering assessments and manufacturer's recommendations could not be used to supplement the test data. You would also be required to conduct repeat performance tests within 2 years following each previous test and within 150 days after each replacement of any portion of the biofilter bed media with a different type of media or each replacement of more than 50 percent (by volume) of the biofilter bed media with the same type of media.

Monitoring to demonstrate continuous compliance with the emission limit would be required for the same parameter measured during the performance test. The continuous parameter monitoring system (CPMS) monitoring and recordkeeping requirements in 40 CFR 63.996 and 40 CFR 63.998 would apply to temperature monitors, and the continuous emission monitoring system (CEMS) monitoring requirements in subpart A of 40 CFR part 63 would apply to organic monitoring devices.

I. Emission Limit for Hydrogen Halide and Halogen HAP From Process Vents

We are proposing to add a halogen atom mass flow rate emission limit of 0.45 kilograms per hour (kg/hr) as an alternative to the current emission limits that require either a 99 percent reduction or control to an outlet concentration limit of 20 ppmv because we inadvertently neglected to include it in the final rule. This control option is already available for hydrogen halide and halogen HAP emissions generated by combusting halogenated organic vent streams, and there is no reason not to include it for hydrogen halide and halogen HAP emissions from process vents. This control option also would make the requirements for hydrogen halide and halogen HAP consistent with the requirements for combusting halogenated organic vent streams. The amendment will allow operators with halogenated Group 1 streams also containing greater than 1,000 pounds per year halides to use the 0.45 kg/yr control option for combustion devices.

V. How are we proposing to amend the requirements for wastewater systems?

A. Definitions of Wastewater and Group 1 Wastewater

We are proposing several changes to the criteria for Group 1 wastewater in 40 CFR 63.2485(c) to address inconsistencies identified by industry regarding concentration thresholds for partially soluble HAP (PSHAP compounds in table 8 to subpart FFFF) and soluble HAP (SHAP compounds in table 9 to subpart FFFF). We are also proposing to change the HAP threshold in one set of criteria for Group 1 wastewater at a new source due to uncertainty regarding the performance at the source originally identified as the best performing source.

The three sets of criteria in the final rule are as follows:

• The total annual average concentration of compounds in table 8 to this subpart is greater than 50 parts per million by weight (ppmw), and the combined total annual average concentration of compounds in tables 8 and 9 to this subpart is greater than or equal to 10,000 ppmw at any flowrate.

• The total annual average concentration of compounds in table 8 to this subpart is greater than 50 ppmw, the combined total annual average concentration of compounds in tables 8 and 9 to this subpart is greater than or equal to 1,000 ppmw, and the annual average flowrate is greater than or equal to 1 1/min.

• The total annual average concentration of compounds in table 8 to this subpart is less than or equal to 50 ppmw, the total annual average concentration of compounds in table 9 to this subpart is greater than or equal to 30,000 ppmw at an existing source or greater than or equal to 4,500 ppmw at a new source, and the total annual load of compounds in table 9 to this subpart is greater than or equal to 1 tpy.

The originally proposed wastewater provisions (67 FR 16154; April 4, 2002) closely followed the provisions in the HON, including Group 1 applicability determinations based on the total HAP in the wastewater streams. In response to comments on the proposed rule, we decided to develop the Group 1 criteria listed above based on SHAP and PSHAP, which is analogous to the approach used in the Pharmaceuticals Production NESHAP. By carving out streams that contain only soluble HAP but continuing to look at total HAP in all other streams, we created an inconsistency that became apparent only after promulgation of the rule. Specifically, a wastewater stream with less than 30,000 ppmw of SHAP would not be Group 1 if no PSHAP was present, however, it would be Group 1 if there was at least 50 ppmw of PSHAP and 10,000 ppmw of total HAP. We are now proposing additional changes to the Group 1 criteria to more closely match the format used in the Pharmaceuticals Production NESHAP.

We are proposing to make the lower concentration thresholds (i.e., 1,000 ppmw and 10,000 ppmw) for PSHAP rather than total HAP, and to make the higher concentration threshold (i.e., 30,000 ppmw) for total HAP rather than SHAP. We are also proposing a PSHAP mass load threshold for the streams with at least 10,000 ppmw of PSHAP because the other two sets of criteria listed above and the Group 1 criteria in the Pharmaceuticals Production NESHAP also have minimum mass load thresholds. The proposed level is 200 lb/yr, which is calculated using 10,000 ppmw and an average annual flow of 0.02 1/min.

We are also proposing to amend the third set of criteria for Group 1 wastewater streams by changing the total PSHAP and SHAP threshold for new sources from 4,500 ppmw to 30,000 ppmw. The original threshold was based on the lowest methanol concentration in a stream that was sent to a treatment unit that operated at a performance level equivalent to the level required in the HON; this was determined to be the best performing source. The stream that was determined to meet these conditions had a concentration of 4,500 ppmw, and it was sent to an air stripper (followed by incineration of the overhead gas stream). However, since promulgation of the final rule, questions have been raised about whether such a system is at least equivalent to the design steam stripper option in the HON (i.e., the treatment part of the MACT floor for wastewater at MON sources). Without actual test data for the specific facility, we are unable to determine that the performance of an air stripper system is more efficient than a design steam stripper for a soluble HAP like methanol. Therefore, we removed the facility with the 4,500 ppmw concentration from our new source analysis. The best performing source in the revised analysis has a wastewater stream with a methanol concentration of 30,000 ppmw. Therefore, we are proposing to use this concentration as the threshold for new sources.

A few of the streams in our database would no longer be Group 1 streams under the revised criteria, and a few other streams are now Group 1 based on a different set of criteria. The changes do not affect the MACT floor determinations. Overall performance of the final rule for the streams in our database may be reduced by the slight reduction in the number in Group 1 streams. However, most of the streams that are no longer Group 1 are at facilities that still have other Group 1 streams that will need to be controlled, and only one of the remaining streams has a load over 200 lb/yr.

B. Management Requirements for Wastewater That Is Group 1 for Soluble HAP

We are proposing to add an alternative compliance option in a new 40 CFR 63.2485(n) for wastewater streams that are Group 1 for soluble HAP and receive biological treatment. Under the proposed option, you would not be required to comply with the emission suppression requirements (i.e., covers) for an equalization unit, neutralization unit, or clarifier prior to the activated sludge unit, provided you demonstrate that the treatment system achieves at least 90 percent destruction of the total PSHAP and SHAP entering the equalization unit (or whichever unit is first in the series of units). In addition to the load from streams that are Group 1 for soluble HAP, this total must include the PSHAP and SHAP in all Group 2 streams from MCPU that are sent to the biotreatment unit. If your wastewater stream is Group 1 for PSHAP as well as SHAP (i.e., the stream meets the criteria specified in 40 CFR 63.2485(c)(1) or (2) as well as the criteria in 40 CFR 63.2485(c)(3)), you may elect to meet the requirements specified in table 7 to subpart FFFF for the PSHAP in the stream and then comply with this new option for the remaining SHAP.

To demonstrate initial compliance with this alternative, use the new equation 1 in 40 CFR 63.2485(n)(2) and comply with the following requirements. First, use the procedures specified in 40 CFR 63.145(f)(1) and (2) to estimate the flow rate and PSHAP and SHAP concentrations at the inlet to the equalization unit under representative conditions, and use these data to calculate the mass flow rate of total PSHAP and SHAP into the equalization unit. Second, use EPA's WATER9 model to estimate emissions from the equalization unit, neutralization unit, and clarifier. Note that you must also conduct testing or use other procedures to validate the modeling results, and the data and results of the validation demonstration must be included in your notification of compliance status report. Third, subtract the estimated emissions from the inlet mass flow rate of total PSHAP and SHAP to the equalization unit to estimate the total PSHAP and SHAP load to the activated sludge unit. Fourth, determine the fraction biodegraded in the activated sludge unit using the procedures specified in 40 CFR 63.145(h). Note that you may assume all of the PSHAP and SHAP entering the activated sludge unit is biodegraded (i.e., Fbio=1) if the biological treatment unit meets the definition of an “enhanced biological treatment unit” and at least 99 percent by weight of the total PSHAP and SHAP at the inlet to the equalization unit are compounds on list 1 of table 36 in 40 CFR part 63, subpart G. Alternatively, if your wastewater contains only a small amount of PSHAP, you may elect to assume that none of it is biodegraded in the activated sludge unit (i.e., fbio=0). Finally, multiply together the fraction biodegraded and the HAP load at the inlet to the activated sludge unit. If this value is more than 90 percent of the load to the equalization unit, then you have demonstrated initial compliance.

We are also proposing to change the venting requirements for lift stations as part of this option. The final rule currently specifies that venting to the atmosphere is allowed for lift stations that are filled and emptied by gravity flow or that operate with no more than slight fluctuations in the liquid level, provided the vent pipe is at least 90 centimeters in length and 10.2 centimeters in nominal inside diameter. The proposed option would allow any openings necessary for proper venting of the lift station because we understand that the specified vent pipe criteria may be too small to allow for proper operation of large lift stations.

Requirements for all waste management units prior to the equalization unit, except for lift stations as noted above, are as specified in 40 CFR part 63, subpart G. Similarly, monitoring, recordkeeping, and reporting requirements for the activated sludge unit are unchanged from the requirements specified in 40 CFR part 63, subpart G.

We are proposing the new compliance option because we believe it will achieve comparable or better control than existing requirements. The 90 percent destruction efficiency is higher than the required fraction removed for most SHAP, particularly methanol, which is by far the most common SHAP. Furthermore, this destruction efficiency is likely comparable to the overall destruction that would be achieved if the emission limit were met using a design steam stripper, and effluent from the steam stripper were discharged to a sewer and biological treatment unit that is not in compliance with 40 CFR part 63, subpart G.

C. Discarding Materials to Water or Wastewater

Section 63.132(f) of the HON, which is referenced from table 7 to subpart FFFF, states that liquid or solid organic materials (except for certain exempted materials) with HAP concentrations >10,000 ppmw may not be discarded to water or wastewater unless the receiving stream is treated as Group 1 wastewater. The concentration in this provision is consistent with the threshold for Group 1 wastewater in the HON. Since the thresholds for Group 1 wastewater streams in subpart FFFF differ from those in the HON, we are proposing to add a new paragraph (m) in 40 CFR 63.2485 to revise the meaning of 40 CFR 63.132(f) for the purposes of subpart FFFF. To match the threshold for Group 1 wastewater specified in 40 CFR 63.2485(c), as modified in amendments described above, the proposed amendment would specify that 40 CFR 63.132(f) applies to materials with a concentration greater than 30,000 ppmw of total PSHAP and SHAP or greater than 10,000 ppmw of PSHAP.

D. Compliance Requirements

We are proposing to add two requirements in new 40 CFR 63.2485(o) to make the recordkeeping requirements for monitoring devices used with control devices for wastewater emissions consistent with the requirements for the same monitoring devices used with control devices for other emissions. First, we are proposing to require that you keep records of all periods during which a pilot flame monitor is not operating. This record is required in 40 CFR 63.998(c)(ii)(C), but it is not included in the referenced sections of subpart G that specify requirements for wastewater systems. Second, we are proposing to require that you keep records as specified in 40 CFR 63.998(c)(1) for CPMS used with nonflare control devices because comparable records are not required in the referenced sections of subpart G. They are required in subpart A to part 63, but table 12 to subpart FFFF specifies that those sections of subpart A do not apply to subpart FFFF because subpart FFFF relies on comparable provisions in subpart SS of this part.

E. Definition of Wastewater

We are proposing three editorial changes to clarify the definition of “wastewater.” According to the current definition, water must be discarded from an MCPU through a “single POD” to be wastewater. We understand that this term has caused confusion because it could be interpreted to mean that an MCPU with multiple points of determination (POD) does not have wastewater. To clarify the requirement, we are proposing to delete the word “single.” The intended meaning is that all water-containing discharges through a single point from a given MCPU (e.g., a recovery device) are considered to be a single wastewater stream.

Another part of the definition specifies concentrations of compounds in “Tables 8 or 9.” We are proposing to replace this phrase with “Tables 8 and 9” to clarify that the thresholds are based on the concentration of total PSHAP and SHAP, not the separate amounts of PSHAP and SHAP.

Finally, we are proposing to clarify the definition of wastewater by specifying that wastewater means process wastewater or maintenance wastewater. This language is also used in the definition of wastewater in the HON, and it clarifies that these are the only types of streams that are wastewater. Streams that are 100 percent organic by-product or waste are not wastewater because they contain no water.

VI. How are we proposing to amend the requirements for equipment leaks?

We are proposing to restructure the equipment leak requirements for existing sources to simplify applicability without impacting the overall level of control achieved by the leak detection and repair (LDAR) program for the MON. We are achieving this improvement by adopting a single beyond-the-floor standard covering both continuous and batch process vents consisting of the requirements in 40 CFR part 63, subpart UU, except that you may elect to comply with sensory monitoring requirements for connectors. This consolidated approach differs from the final rule, which requires compliance with the LDAR program specified in 40 CFR part 63, subpart UU, if an MCPU has any continuous process vents (i.e., a beyond-the-floor requirement), and it requires compliance with the LDAR program in 40 CFR part 63, subpart TT, (i.e., the MACT floor) for MCPU that have no continuous process vents.³ The net effect of these changes is to eliminate the requirement of EPA Method 21 monitoring of connectors for processes with a continuous process vent, requiring sensory monitoring instead, while simultaneously lowering the detection limit for pumps and valves.

³ The LDAR program in 40 CFR part 65, subpart F, the Consolidated Federal Air Rule (CAR), is also an option for any process. The proposed amendments to 40 CFR 63.2480 include comparable exceptions to the requirements for connectors for the CAR.

We decided to propose these changes after we reanalyzed the data in light of an alternative beyond-the floor standard suggested by Petitions.⁴

⁴ A number of Petitioners argued that in light of Arteva Specialties S.R.R.L., d/b/a KoSa v. EPA, 323 F.3d 1088, 1092 (D.C. Cir. 2003), we must review impacts of LDAR monitoring requirements on an individual component basis and not on an LDAR program basis. They urged that we adopt the standard we are proposing today on the basis of such an analysis. While we disagree with Petitioner's assessment of Arteva, we note that if their position were correct the standard we are proposing today would be identical.

As with the analysis used to select the program in the final rule, we also looked at more stringent alternatives, including requiring adoption of 40 CFR part, subpart UU, for all vents, but for this industry the incremental reductions are marginal. Accordingly, we rejected adopting an even tighter beyond-the-floor standard.

We believe that overall these revisions will reduce regulatory burdens. While the lower leak definition should result in identification of additional leaking components in batch processes, thus requiring additional time and materials to repair leaking valves and pumps this increased burden should be more than offset by the decrease in burden achieved by eliminating instrument monitoring for connectors in processes with continuous process vents. Furthermore, some facilities with batch processes are likely to experience a reduction in burden associated with complying with the equipment leak requirements because they also have processes with continuous process vents.

Another change under the proposed amendments to the equipment leak requirements is that you would not be required to develop an initial list of connector identification numbers as otherwise required in 40 CFR 63.1022(b)(1). We are proposing this change to the connector identification requirements because 40 CFR 63.1029 does not require you to calculate the percentage of all connectors that are leaking, and it does not include any other requirements that depend on an identification of specific connectors.

VII. How are we proposing to amend the recordkeeping and reporting requirements?

A. Processes With Uncontrolled Emissions Below the Thresholds for Control

We are proposing a number of changes to the recordkeeping requirements in 40 CFR 63.2525(e) to clarify the requirements and reduce the burden associated with ongoing compliance demonstrations for processes that do not meet the annual mass emission rate thresholds for control of process vent emissions. The final rule currently requires four records for a process if either uncontrolled organic HAP emissions from the sum of all batch process vents within the process are less than 10,000 lb/yr (i.e., Group 2 batch process vents) or uncontrolled hydrogen halide and halogen HAP emissions from the sum of all batch and continuous process vents are less than 1,000 lb/yr. The four records are: (1) A record of the day on which each batch was completed; (2) a record of whether each batch operated was considered a standard batch; (3) the estimated uncontrolled and controlled emissions for each nonstandard batch; and (4) records of the daily 365-day rolling summation of emissions, or alternative records that correlate to the emissions (such as the cumulative number of batches). No records are required if you document in your notification of compliance status report that the process does not process, use, or produce HAP.

After re-examining these requirements, we determined that recordkeeping could be eliminated where emissions from a Group 2 batch vent are being controlled as if they are being emitted from a Group 1 batch process vent. In such case, keeping records to demonstrate that you are below the thresholds is necessary. To implement this change, we are amending 40 CFR 63.987 to provide that you need not comply with the reporting requirements if either of two conditions are met. One of these conditions is if you control Group 2 batch process vents using a flare that meets the requirements of 40 CFR 63.987. There is no need in this case to keep records demonstrating that emissions remain below the threshold for control because you would have been complying with the requirements for Group 1 batch process vents at all times, i.e., you are in fact controlling emissions from the process with a flare. The second condition under which no recordkeeping would be required is if you control Group 2 batch process vents using a control device that meets the requirements for Group 1 vents specified in table 2 to subpart FFFF and for which your determination of worst case for initial compliance includes the contribution of all Group 2 batches. In this case, just like when the control device is a flare, the emissions are always controlled as if they are from Group 1 vents. Thus, there is no need to maintain records that show whether or not the emissions remain below the threshold for control.

We also determined that it is appropriate to reduce recordkeeping requirements under circumstances where we can be confident that the relevant thresholds cannot be exceeded. Specifically, we believe that recordkeeping and reporting are appropriate where: (1) If non-reactive organic HAP usage is less than 10,000 lb/yr (i.e., solvents and impurities in raw materials that pass through the process without participating in reactions), and (2) if total uncontrolled organic HAP emissions from the batch process vents in an MCPU are less than 1,000 lb/yr.

We are proposing two changes that would reduce the initial and ongoing compliance burden for processes with total non-reactive organic HAP usage less than 10,000 lb/yr. First, we are proposing to add a new 40 CFR 63.2460(b)(7) to specify that, as an alternative to determining the uncontrolled batch process vent emissions, you may elect to document in your notification of compliance status report that the non-reactive organic HAP usage is less than 10,000 lb/yr. We are proposing this change to address impurities. There is no need to calculate the emissions if the total non-reactive HAP usage itself is less than the emissions threshold, and the MCPU does not process, use, or produce any other organic HAP. The second proposed amendment would reduce the recordkeeping requirements specified in 40 CFR 63.2525(e). If non-reactive organic HAP usage is expected to be less than 10,000 lb/yr, then simply tracking the consumption of the HAP material would be sufficient to demonstrate compliance with this threshold. Therefore, the proposed amendments would require you to keep records of the amount of non-reactive organic HAP material used and to calculate the daily rolling annual sum of the amount used; you would be allowed to collect and maintain the necessary data for up to one month before actually performing each of the daily calculations. In a new 40 CFR 63.2520(e)(5)(iv), the proposed amendments also would require you to include records for each calculation that shows usage exceeded 10,000 lb/yr in your next compliance report. If you exceed the 10,000 lb/yr usage threshold, you must begin keeping the standard records for Group 2 batch process vents for at least one year. After at least 1 year with usage below 10,000 lb, you could return to recording only usage. We limited this option to non-reactive HAP to keep the recordkeeping simple.

We recognize that many MCPU may have only trace amounts of HAP, yet they still generate emissions from batch operations that exceed either the 50 ppmv or 200 lb/yr threshold in the definition of a batch process vent. Some of these MCPU also may have estimated emissions well below the 10,000 lb/yr threshold for Group 1 batch process vents. As the final rule is currently written, you are required to keep the records specified in 40 CFR 63.2525(e) regardless of the actual annual emission rate from the batch process vents. We have determined that these records are unnecessary if the anticipated emissions are sufficiently low because it would be virtually impossible to exceed the 10,000 lb/yr threshold by operating nonstandard batches. Therefore, we are proposing to add a provision in 40 CFR 63.2525(e) that reduces the recordkeeping burden for MCPU with anticipated batch process vent emissions less than 1,000 lb/yr. For these MCPU you would be required to document in your notification of compliance status report that the total uncontrolled organic HAP emissions from the batch process vents in the MCPU will be less than 1,000 lb/yr for the anticipated number of batches operated. You would also be required to keep records of the number of batches operated and to calculate a daily rolling annual sum of the batches operated. Similar to the proposed amendment for MCPU with non-reactive organic HAP usage rates less than 10,000 lb/yr, you would be allowed to collect the necessary data for up to one month before performing all of the required daily calculations. Finally, you would be required to include the applicable records in your next compliance report for each calculation that shows the actual number of batches operated exceeds the number specified in your notification of compliance status report. If any record shows you exceeded the 1,000 lb/yr threshold, you would be required to begin keeping the standard records for Group 2 batch process vents for at least 1 year with emissions less than 1,000 lb. We selected the level of 1,000 lb/yr because we believe it is high enough to eliminate unnecessary recordkeeping for processes with clearly minimal emissions from standard batches while still providing an ample margin of safety to ensure that nonstandard batches and increased production rates do not cause the process to exceed the 10,000 lb/yr threshold for Group 1 batch process vents.

As currently written, 40 CFR 63.2525(e) does not clearly specify what records should be kept when a process emits hydrogen chloride and halogen HAP from continuous operations because all of the required records relate to batch operations. To clarify this requirement, our final proposed amendment to 40 CFR 63.2525(e) is to add a provision that would require you to keep records of the number of hours of operation for such processes. In addition, you would need to document in your notification of compliance status report the number of hours per year for continuous operations plus the number of batches for batch operations that corresponds to emissions of 1,000 lb/yr. You would be required to include the applicable records in your compliance report for each calculation that shows the actual hours per year exceeds the hours per year specified in your notification of compliance status report.

B. Standard and Nonstandard Batches

We understand there is some confusion about “standard batches” and “nonstandard batches.” We are not proposing changes to the definitions of standard batch and nonstandard batch or to relevant recordkeeping requirements; however, we want to take this opportunity to explain how we expect the concept of standard and nonstandard batches to be used.

A standard batch is a batch process that is operated within an acceptable range of operating conditions. Numerous operating characteristics and other processing variables affect emissions from a process. Typically, the actual values of these characteristics and variables for successful batches will vary within some range from one batch to the next. As a result, the actual emissions will also vary from batch to batch. Demonstrating compliance by calculating emissions for each batch based on the batch-specific characteristics would be unnecessarily burdensome. Therefore, the final rule specifies that you may develop a standard batch to represent typical batches with a single emissions estimate. The uncontrolled and controlled emissions for each emission episode in a standard batch must be estimated based on the values within these ranges that result in the highest level of emissions. The operating ranges and the calculated emissions become part of the operating scenario for the process. These results also are used in demonstrating initial compliance. Nonstandard batches are batches that operate outside of the documented ranges, provided the variation is due to a reasonably anticipated fluctuation or event, not a malfunction or an intended permanent change. For example, a nonstandard batch occurs when additional processing, or processing at different operating conditions, must be conducted (perhaps in response to a malfunction) to produce a product that is normally produced under conditions described by the standard batch. Emissions for each nonstandard batch must be estimated and recorded. Note that operating a nonstandard batch does not mean you have to create a new operating scenario. To clarify this point, we are proposing to state in 40 CFR 63.2520(e)(10)(i) that a nonstandard batch does not constitute a process change.

To demonstrate initial compliance with some of the requirements for batch process vents, 40 CFR 63.2525(d) and (e) require records of the uncontrolled and controlled emissions for standard batches. To demonstrate ongoing compliance, records of whether each batch is a standard or nonstandard batch and estimated uncontrolled and controlled emissions for each nonstandard batch are required.

One way of achieving an overall process-based percent reduction in batch process vent emissions in accordance with table 2 to subpart FFFF is to over control some vents and under control others. When this strategy is used, you must monitor operating parameters to demonstrate that the intended percent reductions are being achieved by individual control device. However, information on nonstandard batches is needed to demonstrate ongoing compliance with the overall percent reduction requirement. Similarly, emission estimates are needed for each standard and nonstandard batch to demonstrate ongoing compliance for a process if you document in your notification of compliance status report that the process has uncontrolled organic HAP emissions (from batch process vents) less than 10,000 lb/yr, or uncontrolled hydrogen halide and halogen HAP emissions (from both batch and continuous operations) less than 1,000 lb/yr. The concept of standard batches and nonstandard batches and the related recordkeeping requirements in 40 CFR 63.2525(d) and (e) are used to demonstrate compliance in these situations. Note that you must develop standard and nonstandard batches only when complying with the specific process vent provisions identified above in this paragraph. If you elect to comply with other options (e.g., by using a flare or controlling all batch process vents with the same control device), you do not need to develop standard and nonstandard batches.

Our intent was that you have flexibility in determining how to identify and record nonstandard batches. The objective should be to focus on the critical parameters in the standard batch that, if exceeded, can affect emissions or control efficiency. In addition, we are interested in changes that increase emissions from the process; decreases do not need to be estimated and recorded. For example, if the recorded duration of the batch, the measured mass of the batch, and the monitored process condenser exit temperature are each less than the values defined in the standard batch, and these are the critical parameters affecting HAP emissions, then the batch is considered to be standard. In other cases, tracking control device parameters, such as condenser temperature, may be an adequate means of detecting nonstandard batches. Insignificant episodes do not require any further monitoring for “nonstandard” during the operating period.

C. Operating Logs

We are proposing to revise 40 CFR 63.2525(c) to require a schedule or log of operating scenarios (i.e., “operating logs”) only for processes that have batch vents. We are also proposing related changes to the compliance reporting requirements in 40 CFR 63.2520(e)(5)(ii)(C) and (e)(5)(iii)(K) to clarify that operating logs apply only for processes that have batch vents. These proposed changes are intended to minimize the recordkeeping and reporting burden without sacrificing the collection of information needed to demonstrate compliance.

An operating log is any paper or electronic recordkeeping system that tracks the implementation of operating scenarios as an indicator of which processes are operating on any given day. When you experience a deviation from an emission limit, operating limit, or work practice standard, you must include the applicable portion of the log in your compliance report so that EPA or the delegated authority understands which process(es) were operating during the deviation. For example, when you have a deviation from an operating limit for a control device or wastewater treatment unit that is shared by more than one process, an operating log would identify which process (or processes) was operating during the deviation.

We have decided that processes that consist entirely of continuous operations do not need to be included in an operating log because such processes generally operate all of the time. Furthermore, startup and shutdown records may serve the same purpose, provided excess emissions (i.e., a deviation) occur during the startup or shutdown. Although the proposed change means you would not be required to include such a process in an operating log, it does not prohibit you from including it. In the absence of information to the contrary in an operating log or startup and shutdown records, our default assumption will be that each process that consists only of continuous operations was operating during deviations.

D. Reporting Requirements for Emission Points That Change From Group 2 to Group 1

Section 63.2520(e)(10)(ii)(C) of the promulgated rule requires a 60-day advance notification for whenever you change an emission point from Group 2 to Group 1. The purpose of the advance notification is to provide EPA with the opportunity to evaluate whether the change in status is consistent with compliance requirements. Since promulgation we have determined that changing batch process vents to Group 1 status after at least 365 days of operation as Group 2 will always be acceptable because the requirement to have uncontrolled emissions less than 10,000 lb/yr would always be met. Thus, we are proposing to delete the 60-day advance notification requirement for batch process vents. Although the proposed amendment would delete the advance notification requirement, the change in status would still have to be documented in a revised operating scenario and submitted in the applicable compliance report in accordance with 40 CFR 63.2520(e)(7) and (e)(10)(i).

VIII. How are we proposing to change requirements that apply when requirements in subpart FFFF and another rule apply to the same equipment?

Section 63.2535(k) specifies compliance options when equipment subject to 40 CFR part 60, subpart VV, or 40 CFR part 61, subpart V, is also subject to equipment leak provisions in 40 CFR part 63, subpart FFFF. We are proposing two changes to this paragraph. First, as a result of the proposed changes to the definition of continuous process vent, we are proposing to delete the second sentence in this paragraph because it is no longer applicable (see discussion earlier in this preamble). Therefore, this paragraph would only indicate that you may elect to apply subpart FFFF to all equipment subject to either of the other two subparts as well as subpart FFFF. However, it is possible that some equipment that is subject to 40 CFR part 63, subpart V or VV, will be in contact with fluid that only contains volatile organic compounds (VOC) and would not otherwise be subject to the MON. To clarify the procedures in such situations, our second proposed change is to add a statement that would require you to consider all total organic compounds, minus methane and ethane, as if they were organic HAP for the purposes of compliance with this provision. This language is consistent with the language in 40 CFR 63.2535(h), which specifies procedures for dealing with overlap between subpart FFFF and the new source performance standards (NSPS) in 40 CFR part 60, subparts DDD, III, NNN, and RRR.

IX. What miscellaneous technical corrections are we proposing?

We are proposing to edit several provisions to clarify our intent. These proposed changes are described in table 1 of this preamble.

Table 1.—Technical Corrections to Subpart FFFF
Subpart FFFF | Description of proposed correction
40 CFR 63.2435(b) introductory text | We are proposing to replace the phrase “product transfer rack” with “transfer rack.” The change is needed to clarify that, like in the HON, the requirements for transfer racks apply to all materials from the process unit that are loaded at the transfer rack. It is not limited to intended products. This change also will make the language in this section consistent with the language throughout the rest of 40 CFR part 63, subpart FFFF.
40 CFR 63.2435(b)(1)(i) and (ii) | We are proposing to replace the phrase “organic chemical or chemicals” with “organic chemical(s)” to clarify that the final rule applies to the organic chemicals in the specified SIC and NAICS code categories.
40 CFR 63.2445(c) | We are proposing to edit the first sentence in 40 CFR 63.2445(c) to clarify that due dates for notifications are specified in 40 CFR 63.2515 and in subpart A of 40 CFR part 63 (i.e., the General Provisions). This change also makes the sentence consistent with language used in other NESHAP.
40 CFR 63.2450(h) | We are proposing to revise the first sentence in this section to clarify that the design evaluation option for small control devices applies only to control devices that are used to comply with an emission limit for process vents or transfer racks. This option does not apply to control devices for storage tanks and wastewater systems because referenced provisions in subparts G and SS, 40 CFR part 63, already allow a design evaluation for any control devices used to control these emissions.
40 CFR 63.2450(k)(3) | We are proposing changes to clarify that if you elect to measure caustic strength as an alternative to measuring pH, then you must also record the caustic strength measurements instead of pH measurements.
40 CFR 63.2450(k)(4) | We are proposing changes to this section to clarify that if you elect to monitor the inlet temperature and the catalyst activity level, then you must record only the inlet temperature, not both the inlet and outlet temperatures and the temperature difference across the catalyst bed.
40 CFR 63.2450(k)(5) | We are proposing to add this section to require monitoring of influent liquid flow, determination of gas flow, and recordkeeping of the liquid-to-gas ratio for absorbers. This monitoring would be in addition to the measuring the scrubbing liquid temperature and specific gravity, and it would ensure proper operation of the tower and that sufficient scrubbing fluid is circulated to achieve the intended reductions.
40 CFR 63.2460(c)(2)(iii) | We are proposing revisions to clarify that the option to calculate controlled emissions from a condenser apply only if you are complying with a percent reduction standard, not an outlet concentration limit.
40 CFR 63.2465(b) | We are proposing to replace the reference to “40 CFR 63.1257(d)(2)(i) and (ii)” with a reference to “40 CFR 63.1257(d)(2)(i) and/or (ii), as appropriate.” This change clarifies that uncontrolled HCl and hydrogen halide emissions from each process vent may be estimated using the appropriate procedures in either of the referenced paragraphs.
40 CFR 63.2470(b) and entries 1.a.iii and 1.b.iv to Table 2 to subpart FFFF | We are proposing to specify in table 2 to subpart FFFF rather than in 40 CFR 63.2470(b) that you must comply with 40 CFR 63.984 if you reduce HAP emissions by routing to a fuel gas system or process. Therefore, we are proposing to delete and reserve 40 CFR 63.2470(b). The goal of these changes is to enhance clarity of the rule; the requirements are unchanged.
40 CFR 63.2475(c) and entry 1.c in Table 5 to subpart FFFF | We are proposing to specify in table 5 to subpart FFFF rather than in 40 CFR 63.2475(c) that you must comply with 40 CFR 63.984 if you reduce HAP emissions by routing to a fuel gas system or process. Therefore, we are proposing to delete 40 CFR 63.2475(c). The goal of these changes is to enhance clarity of the final rule; the requirements are unchanged.
40 CFR 63.2520(c)(4) | We are proposing to add a statement specifying that the requirement to submit data and rationale used to support engineering assessments does not apply to engineering assessments that show an emission stream from a batch operation contains less than 50 ppmv of HAP or if you use previous test data in your engineering assessment.
40 CFR 63.2520(e)(10)(i) | This section currently requires you to submit a notification of process change whenever you make a change to any of the information submitted in the notification of compliance status report. We are proposing a revision to this section to clarify that the notification requirement applies to changes in information submitted in previous compliance reports as well as the notification of compliance status report.
40 CFR 63.2550(i) | We are proposing to add a definition for the term “halogen atoms” to clarify that this term means chlorine and fluorine when it is used in the definition of “halogenated vent stream.” The concept of a halogenated vent stream is used for emission streams that are controlled using combustion devices that could generate inorganic combustion products that are HAP (i.e., HCl, chlorine, and hydrogen fluoride). Although bromine is also a halogen, it is not included in the definition of halogen atoms because its products of combustion (bromine and hydrogen bromide) are not HAP.
Table 2 to subpart FFFF | We are proposing to edit the language in item 2.c of table 2 to subpart FFFF to clarify our intent that flares are an option for controlling emissions from batch process vents. The revised language does not change the available compliance options.
Entry 1.b in Table 4 to subpart FFFF | We are proposing to correct several typesetting errors. The maximum true vapor pressure threshold should be <76.6 kilopascals, not ≤76.6 kilopascals. The concentration limits for total organic compounds (TOC) or organic HAP and for hydrogen halide and halogen HAP should be ≤20 ppmv, not <20 ppmv.
Table 12 to subpart FFFF | We are proposing changes in the explanations column for many of the entries in table 12 to subpart FFFF to specify that requirements for continuous monitoring systems (CMS) in the General Provisions apply to all CEMS, not just CEMS used to comply with the alternative standard. This correction is needed because CEMS may also be used to monitor the outlet pollutant concentration to demonstrate ongoing compliance with a percent reduction emission limit. The provisions in 40 CFR part 63, subpart SS that apply to control device parameter monitors that are used to demonstrate compliance with a percent reduction emission limit do not apply to CEMS. Therefore, the provisions for CMS in the General Provisions must apply to CEMS that are used in this application as well as to CEMS that are used to comply with the alternative standard.

X. Statutory and Executive Order Reviews

A. Executive Order 12866: Regulatory Planning and Review

Under Executive Order 12866 (58 FR 51735, October 4, 1993), the Agency must determine whether the regulatory action is “significant” and, therefore, subject to review by the Office of Management and Budget (OMB) and the requirements of the Executive Order. The Executive Order defines a “significant regulatory action” as one that is likely to result in a rule that may:

(1) Have an annual effect on the economy of $100 million or more or adversely affect in a material way the economy, a sector of the economy, productivity, competition, jobs, the environment, public health or safety, or State, local, or tribal governments or communities;

(2) create a serious inconsistency or otherwise interfere with an action taken or planned by another agency;

(3) materially alter the budgetary impact of entitlement, grants, user fees, or loan programs or the rights and obligations of recipients thereof; or

(4) raise novel legal or policy issues arising out of legal mandates, the President's priorities, or the principles set forth in the Executive Order.

Although OMB has notified EPA that it considers this a “significant regulatory action” under Executive Order 12866, OMB has waived review of the proposed amendments.

B. Paperwork Reduction Act

The proposed amendments impose no new information collection requirements on the industry. The proposed amendments would give owners and operators options to some requirements. For example, biofilters are proposed as an option to meet the emission limit for batch process vents. Other proposed changes may result in a minor reduction in the burden. For example, one proposed option would allow an owner or operator to conduct sensory monitoring as an alternative to instrument monitoring of connectors. Another proposed change would eliminate the requirement to include data and results from an engineering assessment of emissions from batch operations in the precompliance report if the HAP concentration is determined to be less than 50 ppmv. Since all of these changes are either options or have the potential to result in minor reductions in the information collection burden, the ICR has not been revised.

The OMB has previously approved the information collection requirements contained in the existing regulations under the provisions of the Paperwork Reduction Act, 44 U.S.C. 3501 et seq., and has assigned OMB control number 2060-0533 (EPA ICR number 1969.02). A copy of the OMB approved Information Collection Request (ICR) may be obtained from Susan Auby, Collection Strategies Division; U.S. EPA (2822T); 1200 Pennsylvania Ave., NW., Washington, DC 20460, by e-mail at auby.susan@epa.gov, or by calling (202) 566-1672. Include the ICR or OMB number in any correspondence.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to, a collection of information unless it displays a currently valid OMB control number. The OMB control numbers for EPA's regulations are listed in 40 CFR part 9 and 48, CFR chapter 15.

C. Regulatory Flexibility Act

The Regulatory Flexibility Act generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impacts of today's proposed amendments on small entities, a small entity is defined as: (1) A small business ranging from up to 500 employees to up to 1,000 employees, depending on the NAICS code; (2) a small governmental jurisdiction that is a government of a city, county, town, school district, or special district with a population of less than 50,000; or (3) a small organization that is any not-for-profit enterprise that is independently owned and operated and is not dominant in its field. The maximum number of employees to be considered a small business for each NAICS code is shown in the preamble to the proposed rule (67 FR 16178).

After considering the economic impacts of today's proposed amendments on small entities, I certify that the proposed amendments will not have a significant economic impact on a substantial number of small entities. In determining whether a rule has a significant economic impact on a substantial number of small entities, the impact of concern is any significant adverse economic impact on small entities, since the primary purpose of the regulatory flexibility analyses is to identify and address regulatory alternatives “which minimize any significant economic impact of the rule on small entities.” 5 U.S.C. 603 and 604. Thus, an agency may certify that a rule will not have a significant economic impact on a substantial number of small entities if the rule relieves regulatory burden, or otherwise has a positive economic effect on all of the small entities subject to the rule. The proposed amendments include additional compliance options for process tanks, batch process vents, equipment leaks, and SHAP-containing wastewater that provide small entities with greater flexibility to comply with the standards. Other proposed amendments potentially reduce the recordkeeping and reporting burden. We continue to be interested in the potential impacts of the proposed amendments on small entities and welcome comments on issues related to such impacts.

D. Unfunded Mandates Reform Act

Title II of the Unfunded Mandates Reform Act of 1995 (UMRA), Public Law 104-4, establishes requirements for Federal agencies to assess the effects of their regulatory actions on State, local, and tribal governments and the private sector. Under section 202 of the UMRA, EPA generally must prepare a written statement, including a cost-benefit analysis, for proposed and final rules with “Federal mandates” that may result in expenditures by State, local, and tribal governments, in aggregate, or by the private sector, of $100 million or more in any 1 year. Before promulgating an EPA rule for which a written statement is needed, section 205 of the UMRA generally requires EPA to identify and consider a reasonable number of regulatory alternatives and adopt the least costly, most cost effective, or least-burdensome alternative that achieves the objectives of the rule. The provisions of section 205 do not apply when they are inconsistent with applicable law. Moreover, section 205 allows EPA to adopt an alternative other than the least per costly, most cost-effective, or least burdensome alternative if the Administrator publishes with the final rule an explanation why that alternative was not adopted. Before EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

The EPA has determined that the proposed amendments do not contain a Federal mandate that may result in expenditures of $100 million or more for State, local, and tribal governments, in the aggregate, or the private sector in any 1 year. The maximum total annual costs of the proposed amendments for any year is estimated to be about $75 million, and the proposed amendments do not add new requirements that would increase that cost. Thus, the proposed amendments are not subject to the requirements of sections 202 and 205 of the UMRA. In addition, the proposed amendments contain no regulatory requirements that might significantly or uniquely affect small governments because they contain no requirements that apply to such governments or impose obligations upon them. Therefore, the proposed amendments are not subject to the requirements of section 203 of the UMRA.

E. Executive Order 13132: Federalism

Executive Order 13132 (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

The proposed amendments do not have federalism implications. They will not have substantial direct effects on the States, on the relationship between the national government and the States, or on the distribution of power and responsibilities among the various levels of government, as specified in Executive Order 13132. None of the affected facilities are owned or operated by State or local governments. Thus, Executive Order 13132 does not apply to the proposed amendments.

F. Executive Order 13175: Consultation and Coordination With Indian Tribal Governments

Executive Order 13175 (65 FR 67249, November 9, 2000), requires EPA to develop an accountable process to ensure “meaningful and timely input by tribal officials in the development of regulatory policies that have tribal implications.” The proposed amendments do not have tribal implications, as specified in Executive Order 13175. The proposed amendments provide an owner or operator with several additional options for complying with the emission limits and other requirements in the rule. Therefore, the proposed amendments will not have substantial direct effects on tribal governments, on the relationship between the Federal government and Indian tribes, or on the distribution of power and responsibilities between the Federal government and Indian tribes. Thus, Executive Order 13175 does not apply to the proposed amendments.

G. Executive Order 13045: Protection of Children From Environmental Health and Safety Risks

Executive Order 13045 (62 FR 1985, April 23, 1997) applies to any rule that: (1) Is determined to be “economically significant” as defined under Executive Order 12866, and (2) concerns an environmental health or safety risk that EPA has reason to believe may have a disproportionate effect on children. If the regulatory action meets both criteria, EPA must evaluate the environmental health or safety effects of the planned rule on children, and explain why the planned regulation is preferable to other potentially effective and reasonably feasible alternatives considered by the Agency.

The EPA interprets Executive Order 13045 as applying only to those regulatory actions that are based on health or safety risks, such that the analysis required under section 5-501 of the Executive Order has the potential to influence the regulation. The proposed amendments are not subject to the Executive Order because they are based on technology performance and not health or safety risks.

H. Executive Order 13211: Actions That Significantly Affect Energy Supply, Distribution or Use

The proposed amendments do not constitute a “significant energy action” as defined in Executive Order 13211, “Actions Concerning Regulations That Significantly Affect Energy Supply, Distribution, or Use” (66 FR 28355 (May 22, 2001)) because the proposed amendments are not likely to have a significant adverse effect on the supply, distribution, or use of energy. Further, we have concluded that the proposed amendments are not likely to have any adverse energy effects.

I. National Technology Transfer Advancement Act

Section 12(d) of the National Technology Transfer and Advancement Act (NTTAA) of 1995 (Public Law 104-113) (15 U.S.C. 272 note) directs EPA to use voluntary consensus standards in its regulatory and procurement activities unless to do so would be inconsistent with applicable law or otherwise impractical. Voluntary consensus standards are technical standards (e.g., materials specifications, test methods, sampling procedures, business practices) developed or adopted by one or more voluntary consensus bodies. The NTTAA directs EPA to provide Congress, through annual reports to OMB, with explanations when an agency does not use available and applicable voluntary consensus standards.

During the rulemaking, the EPA conducted searches to identify voluntary consensus standards in addition to EPA test methods referenced by the final rule. The search and review results have been documented and placed in the docket for the NESHAP (Docket OAR-2003-0121). The proposed amendments do not propose the use of any additional technical standards beyond those cited in the final rule. Therefore, EPA is not considering the use of any additional voluntary consensus standards for the proposed amendments.

List of Subjects in 40 CFR Part 63

Environmental protection, Administrative practice and procedure, Air pollution control, Hazardous substances, Intergovernmental relations, Reporting and recordkeeping requirements.

Dated: November 30, 2005.
Stephen L. Johnson,
Administrator.

For the reasons stated in the preamble, title 40, chapter I, part 63 of the Code of the Federal Regulations is proposed to be amended as follows:

PART 63—[AMENDED]

1. The authority citation for part 63 continues to read as follows:

Authority: 42 U.S.C. 7401, et seq.

Subpart FFFF—[Amended]

2. Section 63.2435 is amended as follows:

a. Revising “product transfer racks” to read “transfer racks” in paragraph (b) introductory text;

b. Revising paragraphs (b)(1)(i) and (ii);

c. Revising paragraph (c) introductory text;

d. Revising paragraph (c)(4); and

e. Adding new paragraph (c)(7).

The additions and revisions read as follows:

§ 63.2435 Am I subject to the requirements of this subpart?

* * * * *

(b) * * *

(1) * * *

(i) An organic chemical(s) classified using the 1987 version of SIC code 282, 283, 284, 285, 286, 287, 289, or 386, except as provided in paragraph (c)(5) of this section.

(ii) An organic chemical(s) classified using the 1997 version of NAICS code 325, except as provided in paragraph (c)(5) of this section.

* * * * *

(c) The requirements in this subpart do not apply to the operations specified in paragraphs (c)(1) through (7) of this section.

* * * * *

(4) Fabricating operations (such as spinning or compressing a solid polymer into its end use); compounding operations (in which blending, melting, and resolidification of a solid polymer product occur for the purpose of incorporating additives, colorants, or stabilizers); and extrusion and drawing operations (converting an already produced solid polymer into a different shape by melting or mixing the polymer and then forcing it or pulling it through an orifice to create an extruded product). An operation is not exempt if it involves processing with HAP solvent or if an intended purpose of the operation is to remove residual HAP monomer.

* * * * *

(7) Carbon monoxide production.

* * * * *

3. Section 63.2445 is amended as follows:

a. Revising paragraph (b) and the first sentence in paragraph (c); and

b. Adding new paragraphs (d), (e), and (f).

The additions and revisions read as follows:

§ 63.2445 When do I have to comply with this subpart?

* * * * *

(b) If you have an existing source on November 10, 2003, you must comply with the requirements for existing sources in this subpart no later than May 10, 2008.

(c) You must meet the notification requirements in § 63.2515 according to the dates specified in that section and in subpart A of this part 63. * * *

(d) If you have a Group 2 emission point that becomes a Group 1 emission point after the compliance date for your affected source, you must comply with the Group 1 requirements beginning on the date the switch occurs. A performance test (or design evaluation, if applicable) must be conducted within 150 days after the switch occurs.

(e) If, after the compliance date for your affected source, hydrogen halide and halogen HAP emissions from process vents in a process increase to more than 1,000 lb/yr, or HAP metals emissions from a process at a new affected source increase to more than 150 lb/yr, you must comply with the applicable emission limits specified in Table 3 to this subpart and the associated compliance requirements beginning on the date the emissions exceed the applicable threshold. A performance test (or design evaluation, if applicable) must be conducted within 150 days after the switch occurs.

(f) If you have a small control device for process vent or transfer rack emissions that becomes a large control device, as defined in § 63.2550(i), you must comply with monitoring and associated recordkeeping and reporting requirements for large control devices beginning on the date the switch occurs. A performance test must be conducted within 150 days after the switch occurs.

4. Section 63.2450 is amended as follows:

a. Revising the first sentence in paragraph (h);

b. Revising paragraph (k) introductory text, paragraph (k)(3), paragraph (k)(4) introductory text, and paragraph (k)(4)(i); and

c. Adding new paragraphs (k)(4)(iv) and (k)(5).

The additions and revisions read as follows:

§ 63.2450 What are my general requirements for complying with this subpart?

* * * * *

(h) Design evaluation. To determine the percent reduction of a small control device that is used to comply with an emission limit specified in Table 1, 2, 3, or 5 to this subpart, you may elect to conduct a design evaluation as specified in § 63.1257(a)(1) instead of a performance test as specified in subpart SS of this part 63. * * *

* * * * *

(k) Continuous parameter monitoring. The provisions in paragraphs (k)(1) through (4) of this section apply in addition to the requirements for continuous parameter monitoring system (CPMS) in subpart SS of this part 63.

* * * * *

(3) As an alternative to measuring and recording pH as specified in §§ 63.994(c)(1)(i) and 63.998(a)(2)(ii)(D), you may elect to continuously monitor and record the caustic strength of the scrubber effluent.

(4) As an alternative to the inlet and outlet temperature monitoring requirements for catalytic incinerators as specified in § 63.988(c)(2) and the related recordkeeping requirements specified in § 63.998(a)(2)(ii)(B)(2) and (c)(2)(ii), you may elect to comply with the requirements specified in paragraphs (k)(4)(i) through (iv) of this section.

(i) Monitor and record the inlet temperature as specified in subpart SS of this part 63.

* * * * *

(iv) Recording the downstream temperature and temperature difference across the catalyst bed as specified in § 63.998(a)(2)(ii)(B)(2) and (b)(2)(ii) is not required.

(5) In addition to the monitoring and recordkeeping requirements specified in §§ 63.990(c)(1), 63.993(c)(1), and 63.998(a)(2)(ii)(C) for absorbers, you must use a flow meter capable of providing a continuous record of the absorber influent liquid flow, determine gas stream flow using one of the procedures specified in § 63.994(c)(1)(ii)(A) through (D), and record the absorber liquid-to-gas ratio averaged over the time period of any performance test.

* * * * *

5. Section 63.2460 is amended as follows:

a. Revising paragraph (b) introductory text and paragraphs (b)(1) and (b)(2);

b. Redesignating paragraph (b)(4) as paragraph (b)(5) and amending newly redesignated (b)(5) introductory text by revising “paragraph (b)(4)(i), (ii), or (iii)” to read “paragraph (b)(5)(i), (ii), or (iii)”;

c. Adding new paragraphs (b)(4), (b)(6), and (b)(7);

d. Revising paragraph (c) introductory text, paragraph (c)(1), paragraph (c)(2)(iii), and the first sentence in paragraph (c)(2)(v); and

e. Adding new paragraphs (c)(8) and (c)(9).

The additions and revisions read as follows:

§ 63.2460 What requirements must I meet for batch process vents?

* * * * *

(b) Group status. If a process has batch process vents, as defined in § 63.2550, you must determine the group status of the batch process vents by determining and summing the uncontrolled organic HAP emissions from each of the batch process vents within the process using the procedures specified in § 63.1257(d)(2)(i) and (ii), except as specified in paragraphs (b)(1) through (7) of this section.

(1) To calculate emissions caused by the heating of a vessel without a process condenser to a temperature lower than the boiling point, you must use the procedures in § 63.1257(d)(2)(i)(C)(3).

(2) To calculate emissions from depressurization of a vessel without a process condenser, you must use the procedures in § 63.1257(d)(2)(i)(D)(10).

* * * * *

(4) To calculate uncontrolled emissions when a vessel is equipped with a process condenser, you must use the procedures in § 63.1257(d)(3)(i)(B).

* * * * *

(6) You may change from Group 2 to Group 1 in accordance with either paragraph (b)(6)(i) or (ii) of this section. You must comply with the requirements of this section and submit the test report in the next Compliance report.

(i) You may switch at anytime after operating as Group 2 for at least one year so that you can show compliance with the 10,000 lb/yr threshold for Group 2 batch process vents for at least 365 days before the switch. You may elect to start keeping records of emissions from Group 2 batch process vents before the compliance date. Report a switch based on this provision in your next compliance report in accordance with § 63.2520(e)(10)(i).

(ii) If the conditions in paragraph (b)(6)(i) of this section are not applicable, you must provide a 60-day advance notice in accordance with § 63.2520(e)(10)(ii) before switching.

(7) As an alternative to determining the uncontrolled organic HAP emissions as specified in § 63.1257(d)(2)(i) and (ii), you may elect to demonstrate that non-reactive organic HAP usage in a process is less than 10,000 lb/yr. You must provide data and supporting rationale in your notification of compliance status report explaining why the non-reactive organic HAP usage will be less than 10,000 lb/yr. You must keep records of the non-reactive organic HAP usage as specified in § 63.2525(e)(2) and include information in compliance reports as specified in § 63.2520(e)(5)(iv).

(c) Exceptions to the requirements in subparts SS and WW of this part 63 are specified in paragraphs (c)(1) through (9) of this section.

(1) Process condensers. Process condensers, as defined in § 63.2550(i), are not considered to be control devices for batch process vents. You must determine whether a condenser is a control device for a batch process vent or a process condenser from which the uncontrolled HAP emissions are evaluated as part of the initial compliance demonstration for each MCPU and report the results with supporting rationale in your notification of compliance status report.

(2) * * *

(iii) As an alternative to conducting a performance test or design evaluation to demonstrate initial compliance with a percent reduction requirement for a condenser, you may determine controlled emissions using the procedures specified in § 63.1257(d)(3)(i)(B).

* * * * *

(v) If a process condenser is used for any boiling operations, you must demonstrate that it is properly operated according to the procedures specified in § 63.1257(d)(2)(i)(C)(4)(ii) and (d)(3)(iii)(B), and the demonstration must occur only during the boiling operation. * * *

* * * * *

(8) Terminology. When the term “storage vessel” is used in subpart WW of this part 63, the term “process tank,” as defined in § 63.2550(i), applies for the purposes of this section.

(9) Requirements for a biofilter. If you use a biofilter to meet either the 95 percent reduction requirement or outlet concentration requirement specified in Table 2 to this subpart, you must meet the requirements specified in paragraphs (c)(9)(i) through (iv) of this section.

(i) Operational requirements. The biofilter must be operated at all times when emissions are vented to it.

(ii) Performance tests. To demonstrate initial compliance, you must conduct a performance test according to the procedures in § 63.997 and paragraphs (c)(9)(ii)(A) through (D) of this section. The design evaluation option for small control devices is not applicable if you use a biofilter.

(A) Keep up-to-date, readily accessible continuous records of either the biofilter bed temperature averaged over the full period of the performance test or the outlet total organic HAP or TOC concentration averaged over the full period of the performance test. Include these data in your notification of compliance status report as required by § 63.999(b)(3)(ii).

(B) Record either the percent reduction of total organic HAP achieved by the biofilter determined as specified in § 63.997(e)(2)(iv) or the concentration of TOC or total organic HAP determined as specified in § 63.997(e)(2)(iii) at the outlet of the biofilter, as applicable.

(C) If you monitor the biofilter bed temperature, you may elect to use multiple thermocouples in representative locations throughout the biofilter bed and calculate the average biofilter bed temperature across these thermocouples prior to reducing the temperature data to 15 minute (or shorter) averages for purposes of establishing operating limits for the biofilter. If you use multiple thermocouples, include your rationale for their site selection in your notification of compliance status report.

(D) Submit a performance test report as specified in § 63.999(a)(2)(i) and (ii). Include the records from paragraph (c)(9)(ii)(B) of this section in your performance test report.

(iii) Monitoring requirements. Use either a biofilter bed temperature monitoring device (or multiple devices) capable of providing a continuous record or an organic monitoring device capable of providing a continuous record. Keep records of temperature monitoring results as specified in § 63.998(b) and (c), as applicable. General requirements for monitoring and continuous temperature monitoring systems are contained in § 63.996, and requirements for using a CEMS are specified in § 63.2450(j) and Table 12 to this subpart. If you monitor temperature, the operating temperature range must be based on only the temperatures measured during the performance test; these data may not be supplemented by engineering assessments or manufacturer's recommendations as otherwise allowed in § 63.999(b)(3)(ii)(A). If you establish the operating range (minimum and maximum temperatures) using data from previous performance tests in accordance with § 63.996(c)(6), replacement of the biofilter media with the same type of media is not considered a process change under § 63.997(b)(1). You may expand your biofilter bed temperature operating range by conducting a repeat performance test that demonstrates compliance with the 95 percent reduction requirement or outlet concentration limit, as applicable.

(iv) Repeat performance tests. You must conduct a repeat performance test using the applicable methods specified in § 63.997 within 2 years following the previous performance test and within 150 days after each replacement of any portion of the biofilter bed media with a different type of media or each replacement of more than 50 percent (by volume) of the biofilter bed media with the same type of media.

6. Section 63.2465 is amended by revising the section heading, paragraph (b), and paragraph (d) to read as follows:

§ 63.2465 What requirements must I meet for process vents that emit hydrogen halide and halogen HAP or HAP metals?

* * * * *

(b) If any process vents within a process emit hydrogen halide and halogen HAP, you must determine and sum the uncontrolled hydrogen halide and halogen HAP emissions from each of the process vents within the process using the procedures specified in § 63.1257(d)(2)(i) and/or (ii), as appropriate.

* * * * *

(d) To demonstrate compliance with the emission limit in Table 3 to this subpart for HAP metals at a new source, you must comply with paragraphs (d)(1) through (3) of this section.

(1) Determine the mass emission rate of HAP metals based on process knowledge, engineering assessment, or test data.

(2) Conduct an initial performance test of each control device that is used to comply with the emission limit for HAP metals specified in Table 3 to this subpart. Conduct the performance test according to the procedures in § 63.997. Use Method 29 of appendix A of 40 CFR part 60 to determine the HAP metals at the inlet and outlet of each control device, or use Method 5 of appendix A of 40 CFR part 60 to determine the total particulate matter at the inlet and outlet of each control device. You have demonstrated initial compliance if the overall reduction of either HAP metals or total PM from the process is greater than or equal to 97 percent by weight.

(3) Comply with the monitoring requirements specified in § 63.1366(b)(1)(xi) for each fabric filter used to control HAP metals.

§ 63.2470 [Amended]

7. Section 63.2470 is amended by removing and reserving paragraph (b).

§ 63.2475 [Amended]

8. Section 63.2475 is amended by removing paragraph (c).

9. Section 63.2480 is revised to read as follows:

§ 63.2480 What requirements must I meet for equipment leaks?

(a) You must meet each requirement in Table 6 to this subpart that applies to your equipment leaks, except as specified in paragraph (b) or (c) of this section.

(b) If you comply with subpart UU of this part 63, you may elect to comply with the provisions in paragraphs (b)(1) through (4) of this section as an alternative to the referenced provisions in subpart UU.

(1) The requirements for pressure testing in § 63.1036(b) may be applied to all processes, not just batch processes.

(2) For the purposes of this subpart, pressure testing for leaks in accordance with § 63.1036(b) is not required after reconfiguration of an equipment train if flexible hose connections are the only disturbed equipment.

(3) For an existing source, you are not required to develop an initial list of identification numbers for connectors as would otherwise be required under § 63.1022(b)(1).

(4) For connectors in gas/vapor and light liquid service at an existing source, you may elect to comply with the requirements in § 63.1029 for connectors in heavy liquid service, including all associated recordkeeping and reporting requirements, rather than the requirements of § 63.1027.

(c) If you comply with 40 CFR part 65, subpart F, you may elect to comply with the provisions in paragraphs (c)(1) through (6) of this section as an alternative to the referenced provisions in 40 CFR part 65, subpart F.

(1) The requirements for pressure testing in § 65.117(b) may be applied to all processes, not just batch processes.

(2) For the purposes of this subpart, pressure testing for leaks in accordance with § 65.117(b) is not required after reconfiguration of an equipment train if flexible hose connections are the only disturbed equipment.

(3) For an existing source, you are not required to develop an initial list of identification numbers for connectors as would otherwise be required under § 65.103(b)(1).

(4) You may elect to comply with the monitoring and repair requirements specified in § 65.108(e)(3) as an alternative to the requirements specified in § 65.108(a) through (d) for any connectors at your affected source.

(5) When 40 CFR part 65, subpart F refers to the implementation date specified in § 65.1(f), it means the compliance date specified in § 63.2445.

(6) When §§ 65.105(f) and 65.117(d)(3) refer to § 65.4, it means § 63.2525.

(7) When § 65.120(a) refers to § 65.5(d), it means § 63.2515.

(8) When § 65.120(b) refers to § 65.5(e), it means § 63.2520.

10. Section 63.2485 is amended by revising paragraph (a) and paragraphs (c)(1) through (3) and by adding new paragraphs (m), (n), and (o) to read as follows:

§ 63.2485 What requirements must I meet for wastewater streams and liquid streams within an MCPU?

(a) You must meet each requirement in Table 7 to this subpart that applies to your wastewater streams and liquid streams in open systems within an MCPU, except as specified in paragraphs (b) through (o) of this section.

* * * * *

(c) * * *

(1) The total annual average concentration of compounds in Table 8 to this subpart is greater than or equal to 10,000 ppmw at any flowrate, and the total annual load of compounds in Table 8 to this subpart is greater than or equal to 200 lb/yr.

(2) The total annual average concentration of compounds in Table 8 to this subpart is greater than or equal to 1,000 ppmw, and the annual average flowrate is greater than or equal to 1 l/min.

(3) The combined total annual average concentration of compounds in Tables 8 and 9 to this subpart is greater than or equal to 30,000 ppmw, and the combined total annual load of compounds in Tables 8 and 9 to this subpart is greater than or equal to 1 tpy.

* * * * *

(m) When § 63.132(f) refers to “a concentration of greater than 10,000 ppmw of Table 9 compounds,” it means “a concentration of greater than 30,000 ppmw of total partially soluble HAP (PSHAP) and soluble HAP (SHAP) or greater than 10,000 ppmw of PSHAP” for the purposes of this subpart.

(n) Alternative requirements for wastewater that is Group 1 for soluble HAP only. The option specified in this paragraph (n) applies to wastewater that is Group 1 for soluble HAP in accordance with paragraph (c)(3) of this section and is discharged to biological treatment. Except as provided in paragraph (n)(4) of this section, this option does not apply to wastewater that is Group 1 for partially soluble HAP in accordance with paragraph (c)(1), (2), or (4) of this section. For wastewater that is Group 1 for soluble HAP, you need not comply with §§ 63.133 through 63.137 for any equalization unit, neutralization unit, and/or clarifier prior to the activated sludge unit, and you need not comply with the venting requirements in § 63.136(e)(2)(ii)(A) for lift stations with a volume larger than 10,000 gal, provided you comply with the requirements specified in paragraphs (n)(1) through (3) of this section and all otherwise applicable requirements specified in Table 7 to this subpart. For this option, the treatment requirements in § 63.138 and the performance testing requirements in § 63.145 do not apply to the biological treatment unit, except as specified in paragraphs (n)(2)(i) through (iv) of this section.

(1) Wastewater must be hard-piped between the equalization unit, clarifier, and activated sludge unit. This requirement does not apply to the transfer between any of these types of units that are part of the same structure and one unit overflows into the next.

(2) Calculate the destruction efficiency of the biological treatment unit using Equation 1 of this section in accordance with the procedures described in paragraphs (n)(2)(i) through (vi) of this section. You have demonstrated initial compliance if E is greater than or equal to 90 percent.

Where:

E = Destruction efficiency of total PSHAP and SHAP for the biological treatment unit including the equalization unit, neutralization unit, and/or clarifier, percent

QMWa = mass flow rate of total PSHAP and SHAP compounds entering the equalization unit (or whichever of the three types of units is first), kg/hr

QMGe = mass flow rate of total PSHAP and SHAP compounds emitted from the equalization unit, kg/hr

QMGn = mass flow rate of total PSHAP and SHAP compounds emitted from the neutralization unit, kg/hr

QMGc = mass flow rate of total PSHAP and SHAP compounds emitted from the clarifier, kg/hr

Fbio = Site-specific fraction of PSHAP and SHAP compounds biodegraded in the biological treatment unit

(i) Include all PSHAP and SHAP compounds in both Group 1 and Group 2 wastewater streams from all MCPUs, except you may exclude any compounds that meet the criteria specified in § 63.145(a)(6)(ii) or (iii).

(ii) Conduct the demonstration under representative process unit and treatment unit operating conditions in accordance with § 63.145(a)(3) and (4).

(iii) Determine PSHAP and SHAP concentrations and the total wastewater flow rate at the inlet to the equalization unit in accordance with § 63.145(f)(1) and (2). References in § 63.145(f)(1) and (2) to RMR and AMR do not apply for the purposes of this section.

(iv) Determine Fbio for the activated sludge unit as specified in § 63.145(h), except as specified in paragraph (n)(2)(iv)(A) or (B) of this section.

(A) If the biological treatment process meets both of the requirements specified in § 63.145(h)(1)(i) and (ii), you may elect to replace the Fbio term in Equation 1 of this section with the numeral “1.”

(B) You may elect to assume Fbio is zero for any compounds on List 2 of Table 36 in subpart G.

(v) Determine QMGe, QMGn, and QMGc using EPA's WATER9 model or the most recent update to this model, and conduct testing or use other procedures to validate the modeling results.

(vi) Submit the data and results of your demonstration, including both a description of and the results of your WATER9 modeling validation procedures, in your notification of compliance status report as specified in § 63.2520(d)(2)(ii).

(3) As an alternative to the venting requirements in § 63.136(e)(2)(ii)(A), a lift station with a volume larger than 10,000 gal may have openings necessary for proper venting of the lift station. The size and other design characteristics of these openings may be established based on manufacturer recommendations or engineering judgment for venting under normal operating conditions. You must describe the design of such openings and your supporting calculations and other rationale in your notification of compliance status report.

(4) For any wastewater streams that are Group 1 for both PSHAP and SHAP, you may elect to meet the requirements specified in Table 7 to this subpart for the PSHAP and then comply with paragraphs (n)(1) through (3) of this section for the SHAP in the wastewater system. You may determine the SHAP mass removal rate, in kg/hr, in treatment units that are used to meet the requirements for PSHAP and add this amount to both the numerator and denominator in equation 1 of this section.

(o) Compliance records. (1) If you use a flare to meet a requirement specified in Table 7 to this subpart, you must keep records of the times and durations of all periods during which the pilot flame monitor is not operating. This information must be submitted in the compliance reports as specified in § 63.2520(e)(5)(iii)(A).

(2) For each CPMS used to monitor a nonflare control device for wastewater emissions, you must keep records as specified in § 63.998(c)(1) in addition to the records required in § 63.147(d).

11. Section 63.2520 is amended as follows:

a. Revising paragraph (c)(4);

b. Revising paragraph (d)(2)(i);

c. Revising paragraphs (e)(5) introductory text, (e)(5)(ii)(C), and (e)(5)(iii)(K) and adding new paragraph (e)(5)(iv);

d. Revising paragraph (e)(9); and

e. Revising the first two sentences of paragraph (e)(10)(i) and paragraph (e)(10)(ii)(C).

The additions and revisions read as follows:

§ 63.2520 What reports must I submit and when?

* * * * *

(c) * * *

(4) Data and rationale used to support an engineering assessment to calculate uncontrolled emissions in accordance with § 63.1257(d)(2)(ii). This requirement does not apply if you determine the total HAP concentration to be less than 50 ppmv or if you use previous test data to establish the uncontrolled emissions.

(d) * * *

(2) * * *

(i) The results of any applicability determinations, emission calculations, or analyses used to identify and quantify HAP usage or HAP emissions from the affected source.

* * * * *

(e) * * *

(5) The compliance report must contain the information on deviations, as defined in § 63.2550, according to paragraphs (e)(5)(i), (ii), (iii), and (iv) of this section.

* * * * *

(ii) * * *

(C) Operating logs of processes with batch vents for the day(s) during which the deviation occurred, except operating logs are not required for deviations of the work practice standards for equipment leaks.

(iii) * * *

(K) Operating logs of processes with batch vents for each day(s) during which the deviation occurred.

* * * * *

(iv) If you documented in your notification of compliance status report that an MCPU has Group 2 batch process vents because the non-reactive HAP usage is less than 10,000 lb/yr, the total uncontrolled organic HAP emissions from the batch process vents in an MCPU will be less than 1,000 lb/yr for the anticipated number of standard batches, or total uncontrolled hydrogen halide and halogen HAP emissions from all batch process vents and continuous process vents in a process are less than 1,000 lb/yr, include the records associated with each calculation required by § 63.2525(e) that exceeds an applicable HAP usage or emissions threshold.

* * * * *

(9) Applicable records and information for periodic reports as specified in referenced subparts F, G, SS, WW, and GGG of this part and subpart F of 40 CFR part 65.

(10) * * *

(i) Except as specified in paragraph (e)(10)(ii) of this section, whenever you make a process change, or change any of the information submitted in the notification of compliance status report or a previous compliance report, that is not within the scope of an existing operating scenario, you must document the change in your compliance report. A process change does not include moving within a range of conditions identified in the standard batch, and a nonstandard batch does not constitute a process change. * * *

(ii) * * *

(C) A change from Group 2 to Group 1 for any emission point except for batch process vents that meet the conditions specified in § 63.2460(b)(6)(i).

12. Section 63.2525 is amended by revising paragraphs (a), (c), and (e) to read as follows:

§ 63.2525 What records must I keep?

(a) Each applicable record required by subpart A of this part 63 and in referenced subparts F, G, SS, WW, and GGG of this part 63 and in referenced subpart F of 40 CFR part 65.

* * * * *

(c) A schedule or log of operating scenarios for processes with batch vents updated each time a different operating scenario is put into effect.

* * * * *

(e) The information specified in paragraph (e)(2), (3), or (4) of this section, as applicable, for each process with Group 2 batch process vents or uncontrolled hydrogen halide and halogen HAP emissions from the sum of all batch and continuous process vents less than 1,000 lb/yr. No records are required for situations described in paragraph (e)(1) of this section.

(1) No records are required if you documented in your notification of compliance status report that the MCPU meets any of the situations described in paragraph (e)(1)(i), (ii), or (iii) of this section.

(i) The MCPU does not process, use, or produce HAP.

(ii) You control the Group 2 batch process vents using a flare that meets the requirements of § 63.987.

(iii) You control the Group 2 batch process vents using a control device for which your determination of worst case for initial compliance includes the contribution of all Group 2 batches.

(2) If you documented in your notification of compliance status report that an MCPU has Group 2 batch process vents because the non-reactive organic HAP usage is less than 10,000 lb/yr, as specified in § 63.2460(b)(7), you must keep records of the amount of HAP material used, and calculate the daily rolling annual sum of the amount used no less frequently than monthly. If a record indicates usage exceeds 10,000 lb/yr, you must estimate emissions for the preceding 12 months based on the number of batches operated and the estimated emissions for a standard batch, and you must begin recordkeeping as specified in paragraph (e)(4) of this section. After 1 year, you may revert to recording only usage if the usage during the year is less than 10,000 lb.

(3) If you documented in your notification of compliance status report that total uncontrolled organic HAP emissions from the batch process vents in an MCPU will be less than 1,000 lb/yr for the anticipated number of standard batches, then you must keep records of the number of batches operated and calculate a daily rolling annual sum of batches operated no less frequently than monthly. If the number of batches operated results in organic HAP emissions that exceed 1,000 lb/yr, you must estimate emissions for the preceding 12 months based on the number of batches operated and the estimated emissions for a standard batch, and you must begin recordkeeping as specified in paragraph (e)(4) of this section. After one year, you may revert to recording only the number of batches if the number of batches operated during the year results in less than 1,000 lb of organic HAP emissions.

(4) If you meet none of the conditions specified in paragraphs (e)(1) through (3) of this section, you must keep records of the information specified in paragraphs (e)(4)(i) through (iv) of this section.

(i) A record of the day each batch was completed and/or the operating hours per day for continuous operations with hydrogen halide and halogen emissions.

(ii) A record of whether each batch operated was considered a standard batch.

(iii) The estimated uncontrolled and controlled emissions for each batch that is considered to be a nonstandard batch.

(iv) Records of the daily 365-day rolling summations of emissions, or alternative records that correlate to the emissions (e.g., number of batches), calculated no less frequently than monthly.

* * * * *

13. Section 63.2535 is amended by revising paragraph (k) to read as follows:

§ 63.2535 What compliance options do I have if part of my plant is subject to both this subpart and another subpart?

* * * * *

(k) Compliance with 40 CFR part 60, subpart VV, and 40 CFR part 61, subpart V. After the compliance date specified in § 63.2445, if you have an affected source with equipment that is also subject to the requirements of 40 CFR part 60, subpart VV, or 40 CFR part 61, subpart V, you may elect to apply this subpart to all such equipment. If you elect this method of compliance, you must consider all total organic compounds, minus methane and ethane, in such equipment for purposes of compliance with this subpart, as if they were organic HAP. Compliance with the provisions of this subpart, in the manner described in this paragraph (k), will constitute compliance with 40 VFR part 60, subpart VV and 40 CFR part 61, subpart V, as applicable.

* * * * *

14. Section 63.2550 is amended as follows:

a. Removing and reserving paragraphs (b) and (c);

b. Revising the last sentence in paragraph (i) introductory text;

c. Revising paragraph (8) in the definition of the term “batch process vent” in paragraph (i);

d. Adding new paragraphs (6) and (7) to the definition of the term “continuous process vent” in paragraph (i);

e. Revising the definition of the term “Group 1 continuous process vent” in paragraph (i);

f. Adding new paragraph (6) to the definition of the term “miscellaneous organic chemical manufacturing process” in paragraph (i);

g. Revising the definition of the term “surge control vessel” in paragraph (i);

h. Revising the introductory text of the definition of the term “wastewater” in paragraph (i); and

i. Adding, in alphabetical order, new definitions for the terms “biofilter,” “continuous operation,” “halogen atoms,” “HAP metals,” and “process condenser” in paragraph (i).

The additions and revisions read as follows:

§ 63.2550 What definitions apply to this subpart?

* * * * *

(i) * * * If a term is defined in § 63.2, § 63.101, § 63.111, § 63.981, § 63.1061, § 63.1251, or § 65.2 and in this paragraph (i), the definition in this paragraph (i) applies for the purposes of this subpart.

* * * * *

Batch process vent * * *

(8) Emission streams from emission episodes that are undiluted and uncontrolled containing less than 50 ppmv HAP are not part of any batch process vent. A vent from a unit operation, or a vent from multiple unit operations that are manifolded together, from which total uncontrolled HAP emissions are less than 200 lb/yr is not a batch process vent; emissions for all emission episodes associated with the unit operation(s) must be included in the determination of the total mass emitted. The HAP concentration or mass emission rate may be determined using any of the following: Process knowledge that no HAP are present in the emission stream; an engineering assessment as discussed in § 63.1257(d)(2)(ii), except that you do not need to demonstrate that the equations in § 63.1257(d)(2)(i) do not apply, and the precompliance reporting requirements specified in § 63.1257(d)(2)(ii)(E) do not apply for the purposes of this demonstration; equations specified in § 63.1257(d)(2)(i), as applicable; test data using Method 18 of 40 CFR part 60, appendix A; or any other test method that has been validated according to the procedures in Method 301 of appendix A of this part.

* * * * *

Biofilter means an enclosed control system such as a tank or series of tanks with a fixed roof that contact emissions with a solid media (such as bark) and use microbiological activity to transform organic pollutants in a process vent stream to innocuous compounds such as carbon dioxide, water, and inorganic salts. Wastewater treatment processes such as aeration lagoons or activated sludge systems are not considered to be biofilters.

* * * * *

Continuous operation means any operation that is not a batch operation.

* * * * *

Continuous process vent * * *

(6) The references to an “air oxidation reactor, distillation unit, or reactor” in § 63.107 mean any continuous operation for the purposes of this subpart.

(7) If a gas stream that originates as a continuous flow from a continuous operation is combined with gas streams from other process operations, but not items in § 63.107(h), the determination of whether the gas stream is a continuous process vent must be made at a point prior to the combination of the gas streams. The phrase “point of discharge to the atmosphere (or the point of entry to a control device, if any)” in § 63.107(c), (d), and (f) means “a point prior to the combination of the gas streams” when such gas streams are combined.

* * * * *

Group 1 continuous process vent means a continuous process vent for which the flow rate is greater than or equal to 0.005 standard cubic meter per minute, and the total resource effectiveness index value, calculated according to § 63.2455(b), is less than or equal to 1.9 at an existing source and less than or equal to 5.0 at a new source.

* * * * *

Halogen atoms mean chlorine and fluorine.

* * * * *

HAP metals means the metal portion of antimony compounds, arsenic compounds, beryllium compounds, cadmium compounds, chromium compounds, cobalt compounds, lead compounds, manganese compounds, mercury compounds, nickel compounds, and selenium compounds.

* * * * *

Miscellaneous organic chemical manufacturing process * * *

(6) The end of a process that produces a solid material is either up to and including the dryer or, for a polymer production process without a dryer, up to and including the extruder or die plate, except in two cases. If the dryer, extruder, or die plate is followed by an operation that is designed and operated to remove HAP solvent or residual HAP monomer from the solid, then the solvent removal operation is the last step in the process. If the dried solid is diluted or mixed with a HAP-based solvent, then the solvent removal operation is the last step in the process.

* * * * *

Process condenser means a condenser whose primary purpose is to recover material as an integral part of an MCPU. A primary condenser or condensers in series are considered to be integral to the MCPU if they are capable of and normally used for the purpose of recovering chemicals for fuel value (i.e., net positive heating value) use, reuse or for sale for fuel value use, or reuse. All condensers recovering condensate from an MCPU at or above the boiling point or all condensers in line prior to a vacuum source are considered process condensers.

* * * * *

Surge control vessel means feed drums, recycle drums, and intermediate vessels as part of any continuous operation. Surge control vessels are used within an MCPU when in-process storage, mixing, or management of flowrates or volumes is needed to introduce material into continuous operations.

* * * * *

Wastewater means water that is discarded from an MCPU through a POD and that contains either: an annual average concentration of compounds in Tables 8 and 9 to this subpart of at least 5 ppmw and has an annual average flowrate of 0.02 liters per minute or greater; or an annual average concentration of compounds in Tables 8 and 9 to this subpart of at least 10,000 ppmw at any flowrate. Wastewater means process wastewater or maintenance wastewater. The following are not considered wastewater for the purposes of this subpart: * * *

* * * * *

15. Table 2 to subpart FFFF of part 63 is amended by revising entry 1 to read as follows:

Table 2 to Subpart FFFF of Part 63.—Emission Limits and Work Practice Standards for Batch Process Vents
For each . . . | Then you must . . . | And you must . . .
1. Process with Group 1 batch process vents | a. Reduce collective uncontrolled organic HAP emissions from the sum of all batch process vents within the process by ≥98 percent by weight by venting emissions from a sufficient number of the vents through a closed-vent system to any combination of control devices. (except a flare); or | Not applicable.
| b. Reduce collective uncontrolled organic HAP emissions from the sum of all batch process vents within the process by ≥95 percent by weight by venting emissions from a sufficient number of the vents through a closed-vent system to any combination of recovery devices or a biofilter, except you may elect to comply with the requirements of subpart WW of this part for any process tank; or | Not applicable.
| c. Reduce uncontrolled organic HAP emissions from one or more batch process vents within the process by venting through a closed-vent system to a flare or by venting through a closed-vent to any combination of control devices (excluding a flare) that reduce organic HAP to an outlet concentration ≤20 ppmv as TOC or total organic HAP | For all other batch process vents within the process, reduce collective organic HAP emissions as specified in item 1.a and/or item 1.b of this table.
* * * * * * *

16. Table 3 to subpart FFFF of part 63 is revised to read as follows:

Table 3 to Subpart FFFF of Part 63.—Emission Limits for Hydrogen Halide and Halogen HAP Emissions or HAP Metals Emissions From Process Vents
For each . . . | You must . . .
1. Process with uncontrolled hydrogen halide and halogen HAP emissions from process vents ≥1,000 lb/yr | a. Reduce collective hydrogen halide and halogen HAP with emissions by ≥99 percent by weight or to an outlet concentration ≤20 ppmv by venting through a closed-vent system to any combination of control devices, or
| b. Reduce the halogen atom mass emission rate to ≤0.45 halogen HAP kg/hr by venting through a closed-vent system to a halogen reduction device.
2. Process at a new source with uncontrolled emissions from process vents ≥150 lb/yr of HAP metals | Reduce overall emissions of HAP metals by ≥97 percent by at a new weight.

17. Table 4 to subpart FFFF of part 63 is amended by revising entry 1 to read as follows: [?USGPO Galley End:?]

Table 4 to Subpart FFFF of Part 63.—Emission Limits for Storage Tanks
For each . . . | For which . . . | Then you must . . .
1. Group 1 storage tank | a. The maximum true vapor pressure of total HAP at the storage temperature of ≥76.6 kilopascals | i. Reduce total HAP emissions by ≥95 percent by weight or to ≤20 ppmv of TOC or organic HAP and ≤20 ppmv of hydrogen halide and halogen HAP by venting emissions through a closed vent system to any combination of control devices (excluding a flare); or ii. Reduce total organic HAP emissions by venting emissions through a closed vent system to a flare; or iii. Reduce total HAP emissions by venting emissions to a fuel gas system or process in accordance with § 63.984 and the requirements referenced therein.
| b. The maximum true vapor pressure of total HAP at the storage temperature is <76.6 kilopascals | i. Comply with the requirements of subpart WW of this part, except as specified in § 63.2470; or ii. Reduce total HAP emissions by ≥95 percent at the storage by weight or to ≤20 ppmv of TOC or organic HAP and ≤20 ppmv of hydrogen halide and halogen HAP by venting emissions through a closed vent system to any combination of control devices (excluding a flare); or iii. Reduce total organic HAP emissions by venting emissions through a closed vent system to a flare; or
|  | iv. Reduce total HAP emissions by venting emissions to a fuel gas system or process in accordance with § 63.984 and the requirements referenced therein.
* * * * * * *

18. Table 5 to subpart FFFF of part 63 is amended by revising entry 1 to read as follows:

Table 5 to Subpart FFFF of Part 63.—Emission Limits and Work Practice Standards for Transfer Racks
For each . . . | You must . . .
1. Group 1 transfer rack | a. Reduce emissions of total organic HAP by ≥98 percent by weight or to an outlet concentration ≤20 ppmv as organic HAP or TOC by venting emissions through a closed-vent system to any combination of control devices (except a flare); or b. Reduce emissions of total organic HAP by venting emissions through a closed-vent system to a flare; or
| c. Reduce emissions of total organic HAP by venting emissions to a fuel gas system or process in accordance with § 63.984 and the requirements referenced therein; or
| d. Use a vapor balancing system designed and operated to collect organic HAP vapors displaced from tank trucks and railcars during loading and route the collected HAP vapors to the storage tank from which the liquid being loaded originated or to another storage tank connected by a common header.
* * * * * * *

19. Table 6 to subpart FFFF of part 63 is revised to read as follows:

Table 6 to Subpart FFFF of Part 63.—Requirements for Equipment Leaks
For all . . . | You must . . .
1. Equipment that is in organic HAP service | a. Comply with the requirements of subpart UU of this part 63 and the requirements referenced therein, except as specified in § 63.2480(b), or b. Comply with the requirements of 40 CFR part 65, subpart F and the requirements referenced therein, except as specified in § 63.2480(c).

20. Table 12 to subpart FFFF of part 63 is amended as follows:

a. Removing the entries for §§ 63.8(c)(4)(i)-(ii) and 63.10(e)(1)-(2);

b. Adding new entries for §§ 63.8(c)(4)(i), 63.8(c)(4)(ii), 63.10(e)(1), 63.10(e)(2)(i), and 63.10(e)(2)(ii); and

c. Revising the entries for §§ 63.8(c)(4), 63.8(c)(6), 63.8(c)(7)-(8), 63.8(d), 63.8(e), 63.9(g), 63.10(b)(2)(xiii), and 63.10(c)(1)-(6), (9)-(15).

Table 12 to Subpart FFFF of Part 63.—Applicability of General Provisions to Subpart FFFF
Citation | Subject | Explanation
§ 63.8(c)(4) | CMS Requirements | Only for CEMS. Requirements for CPMS are specified in referenced subparts G and SS of part 63. Requirements for COMS do not apply because subpart FFFF does not require COMS.
§ 63.8(c)(4)(i) | COMS Measurement and Recording Frequency | No; subpart FFFF does not require COMS.
§ 63.8(c)(4)(ii) | CEMS Measurement and Recording Frequency | Yes.
* * * * * * *
§ 63.8(c)(6) | CMS Requirements | Only for CEMS; requirements for CPMS are specified in referenced subparts G and SS of this part 63. Requirements for COMS do not apply because subpart FFFF does not require COMS.
§ 63.8(c)(7)-(8) | CMS Requirements | Only for CEMS. Requirements for CPMS are specified in referenced subparts G and SS of part 63. Requirements for COMS do not apply because subpart FFFF does not require COMS.
§ 63.8(d) | CMS Quality Control | Only for CEMS.
§ 63.8(e) | CMS Performance Evaluation | Only for CEMS. Section 63.8(e)(5)(ii) does not apply because subpart FFFF does not require COMS.
* * * * * * *
§ 63.9(g) | Additional Notifications When Using CMS | Only for CEMS. Section 63.9(g)(2) does not apply because subpart FFFF does not require COMS.
* * * * * * *
§ 63.10(b)(2)(xiii) | Records | Only for CEMS.
* * * * * * *
§ 63.10(c)(1)-(6), (9)-(15) | Records | Only for CEMS. Recordkeeping requirements for CPMS are specified in referenced subparts G and SS of this part 63.
* * * * * * *
§ 63.10(e)(1) | Additional CEMS Reports | Yes.
§ 63.10(e)(2)(i) | Additional CMS Reports | Only for CEMS.
§ 63.10(e)(2)(ii) | Additional COMS Reports | No. Subpart FFFF does not require COMS.
* * * * * * *

[FR Doc. 05-23666 Filed 12-7-05; 8:45 am]

BILLING CODE 6560-50-P